OFFICE OF PERSONNEL MANAGEMENT

2002 Nonforeign Area Cost-of-Living Allowance Survey Report: Caribbean and Washington, DC, Areas

AGENCY: Office of Personnel Management.

ACTION: Notice.

SUMMARY: This notice publishes the “2002 Nonforeign Area Cost-of-Living Allowance Survey Report: Caribbean and Washington, DC, Areas.” The Federal Government uses the results of these surveys to set cost-of-living allowance (COLA) rates for General Schedule, U.S. Postal Service, and certain other Federal employees in Alaska, Hawaii, Guam and the Commonwealth of the Northern Mariana Islands, Puerto Rico, and the U.S. Virgin Islands. This report contains the results of the COLA surveys that the Office of Personnel Management conducted in Puerto Rico, the U.S. Virgin Islands, and the Washington, DC, area during the summer of 2002.

DATES: Comments on this report must be received on or before June 8, 2004.

ADDRESSES: Send or deliver comments to Donald J. Winstead, Deputy Associate Director for Pay and Performance Policy, Strategic Human Resources Policy Division, Office of Personnel Management, Room 7H31, 1900 E Street NW., Washington, DC 20415-8200; fax: (202) 606-4264; or e-mail: COLA@opm.gov.

FOR FURTHER INFORMATION CONTACT: Donald L. Paquin, (202) 606-2838; fax: (202) 606-4264; or e-mail: COLA@opm.gov.

SUPPLEMENTARY INFORMATION: Section 591.229 of title 5, Code of Federal Regulations, requires the Office of Personnel Management (OPM) to publish nonforeign area cost-of-living allowance (COLA) survey summary reports in the Federal Register. We are publishing the complete “2002 Nonforeign Area Cost-of-Living Allowance Survey Report: Caribbean and Washington, DC, Areas” with this notice. This report contains the results of the COLA surveys OPM conducted in Puerto Rico, the U.S. Virgin Islands, and the Washington, DC, area during the summer of 2002.

OPM published final regulations on May 3, 2002, (at 67 FR 22339) that significantly modified the previous COLA survey methodology consistent with the settlement agreement in Caraballo, et al. v. United States, No. 1997-0027 (D.V.I.), August 17, 2000. Caraballo was a class-action lawsuit in which the plaintiffs contested the methodology OPM used to determine COLA rates. In the Caraballo settlement, the parties agreed that if the Government adopted and maintained certain changes in the COLA program, the plaintiffs would be forever barred from bringing suit over these issues. Exhibit A of the settlement agreement lists 26 “Safe Harbor Principles” that outline the changes to which the parties agreed. (The settlement agreement is available on OPM's Web site at http://www.opm.gov/oca/cola.)

The 2002 COLA surveys in Puerto Rico, the U.S. Virgin Islands, and the Washington, DC, area are the first that OPM conducted using the new methodology. The survey report that follows describes the methodology, calculations, and the results of these surveys.

Survey Results

Using an index scale with the Washington, DC, area living costs equal to 100, OPM computed index values of relative living costs in Puerto Rico and the U.S. Virgin Islands. Then, pursuant to the Caraballo settlement, OPM added an adjustment factor of 7.0 to the Puerto Rico index and 9.0 to the Virgin Islands index and rounded the results to the nearest whole percentage point. The results show that the existing COLA rates for Puerto Rico and the U.S. Virgin Islands (11.5 percent and 22.5 percent respectively) are above the levels indicated by the 2002 survey. However, pursuant to the Caraballo settlement, OPM will not reduce COLA rates in any nonforeign area until the effective date implementing the results of the Pacific surveys that are planned for 2004. OPM anticipates that the effective date of that final rule will be in mid-2005. At that time, OPM will reduce any COLA rates where reductions are warranted but not by more than 1 percent per year, as prescribed in 5 CFR 591.228(c).

Office of Personnel Management.
Kay Coles James,
Director.

2002 Nonforeign Area Cost-of-Living Allowance Survey Report: Caribbean and Washington, DC, Areas

Table of Contents

Executive Summary

1. Introduction

1.1 Report Objectives

1.2 New COLA Methodology

1.3 Significant Methodological Changes

2. Preparing for the Survey

2.1 COLA Advisory Committees

2.2 Pre-Survey Meetings

2.3 Survey Item Selection

2.3.1 Special Considerations

2.4 Outlet Selection

2.5 Geographic Coverage

3. Conducting the Survey

3.1 Pricing Period

3.2 Non-Housing Price Data Collection

3.2.1 Data Collection Teams

3.2.2 Data Collection Process

3.3 Housing (Rental) Price Data Collection

4. Analyzing the Results

4.1 Data Review

4.2 Special Price Computations

4.2.1 K-12 Private Education

4.2.2 Health Insurance

4.2.3 Water Utilities

4.2.4 Energy Utilities Model

4.2.5 Rental Data Hedonic Models

4.3 Averaging Prices by Item and Area

4.3.1 Special St. Thomas/St. John Computations

4.3.2 Computing DC Area Average Prices

4.4 Computing Price Indexes

4.4.1 Geometric Means

4.4.2 Special Private Education Computations

4.5 Applying Consumer Expenditure Weights

5. Final Results

6. Post Survey Meetings

List of Appendices

Appendix 1: Publication in the Federal Register of Prior Survey Results: 1990-1998

Appendix 2: Estimated DC Area Middle Income Annual Consumer Expenditures

Appendix 3: COLA Survey Items and Descriptions

Appendix 4: COLA Rental Survey Data Collection Elements

Appendix 5: Hedonic Rental Data Equations and Results

Appendix 6: Final Living-Cost Results for Puerto Rico

Appendix 7: Final Living-Cost Results for the U.S. Virgin Islands

Executive Summary

The Government pays cost-of-living allowances (COLAs) to Federal employees in nonforeign areas in consideration of living costs significantly higher than those in the Washington, DC, area. The Office of Personnel Management (OPM) conducts living-cost surveys to set the COLA rates. The methodology for conducting these surveys is prescribed in regulation at subpart B of part 591 of title 5 of the Code of Federal Regulations.

This report provides the results of the COLA surveys that OPM conducted in the summer of 2002 in Puerto Rico, the U.S. Virgin Islands, and the Washington, DC, area. The report details OPM's comparison of living costs in Puerto Rico and the U.S. Virgin Islands with living costs in the Washington, DC, area.

For the surveys, OPM contacted about 900 outlets and collected approximately 5,100 prices on more than 300 items representing typical consumer purchases. OPM then combined the data using consumer expenditure information developed by the Bureau of Labor Statistics. The final results are a series of living-cost indexes, shown in Table 1, that compare living costs in the surveyed areas to those in the Washington, DC, area. The index for the DC area (not shown) is 100.00 because it is, by law, the reference area. The indexes for Puerto Rico and the U.S. Virgin Islands shown in Table 1 include the adjustment factor prescribed at 5 CFR 591.227.

Table 1.—Final Living-Cost Comparison Indexes
Allowance area | Index
Puerto Rico | 103.60
U.S. Virgin Islands | 121.44

1. Introduction

1.1 Report Objectives

This report provides the results of the 2002 (i.e., “Caribbean”) nonforeign area cost-of-living allowance (COLA) surveys that OPM conducted in the summer of 2002. (Appendix 1 lists previous survey reports and their publication dates.) In addition to providing these results, this report describes how OPM prepared for and conducted the survey and how it analyzed the results. The results show comparative living-cost differences between the Caribbean areas, i.e., Puerto Rico and U.S. Virgin Islands (USVI), and the Washington, DC, area. By law, Washington, DC, is the base or “reference” area for the COLA program.

1.2 New COLA Methodology

The Caribbean surveys are the first that OPM conducted using the new methodology that OPM adopted pursuant to the stipulation of settlement in Caraballo, et al. v. United States, No. 1997-0027 (D.V.I), August 17, 2000. Caraballo was a class-action lawsuit in which the plaintiffs contested the methodology OPM used to determine COLA rates. In the Caraballo settlement, the parties agreed that if the Government adopted and maintained certain changes in the COLA program, the plaintiffs would be barred from bringing suit over these issues. The complete stipulation for settlement is on OPM's Web site at http://www.opm.gov/oca/cola/ html/cola-settlement.htm.

Before the settlement, the parties entered into a memorandum of understanding under which they engaged in a cooperative process to study living-cost and compensation issues. The research was exhaustive and covered essentially all aspects of the COLA program. A summary of that research is available on OPM's Web site at http://www.opm.gov/oca/COLA/html/cola-n.htm.

Exhibit A of the Caraballo settlement agreement lists 26 “Safe Harbor Principles” that outline the changes to which the parties agreed. These principles formed the basis for a new COLA methodology, which OPM incorporated into its regulations. In developing these regulations, OPM consulted with the Survey Implementation Committee, which was established under the Caraballo settlement and is composed of representatives of the parties in Caraballo. The Survey Implementation Committee in turn consulted with the Technical Advisory Committee, which was also established under the Caraballo settlement and is composed of three economists with expertise in living-cost comparisons. OPM published the new COLA regulations in the Federal Register as proposed on November 9, 2001 (66 FR 56741) and as final on May 3, 2002 (67 FR 22339).

1.3 Significant Methodological Changes

In the proposed rule, OPM described in detail the regulatory changes that it made to incorporate the new methodology. Among these are the following:

—OPM conducts the surveys in the COLA areas on a rotational basis once every 3 years and in the Washington, DC, area, which is the reference area, every year. Beginning after the first 3 survey years, OPM adjusts the price index for each area not surveyed during a given year based on the relative change in the Consumer Price Index (CPI) for the COLA area compared with the relative change in the CPI for the Washington, DC, area. Under the previous methodology, OPM surveyed every COLA area and the DC area annually (except during the period of negotiation of the Caraballo settlement agreement).

—OPM surveys rents and detailed characteristics of rental units in each area to compute relative shelter costs. OPM uses these data and regression analyses to estimate the cost of shelter for both owners and renters. Under the previous methodology, OPM surveyed rental prices and obtained data on home owner mortgage and maintenance costs.

—OPM surveys sale prices of specified items (with certain exceptions) in effect at the time of the survey. Under the previous methodology, OPM surveyed only non-sale prices.

—OPM uses a utility model to compute the energy requirements and cost to maintain the internal temperature of a standard home at a given temperature in each area. Under the previous methodology, OPM used local usage information provided by local utility companies.

—OPM uses estimated expenditure weights that reflect Washington, DC, area average spending patterns of households in central income groups as reported in tabulated Consumer Expenditure Survey (CES) data, published by the Bureau of Labor Statistics. Under the previous methodology, OPM estimated expenditures at three different income levels and weighted these together using Federal employment weights.

—OPM adds an adjustment factor to the index derived from the survey data to account for differences in need, availability of and access to goods and services, and quality of life between the COLA areas and the Washington, DC, area. The survey index plus the adjustment factor is the final price index for the COLA area. Under the previous methodology, OPM did not add adjustment factors to the living-cost index.

—OPM sets COLA rates by rounding the final living-cost index to the nearest whole percentage point. If COLA rate reductions are warranted, however, OPM limits such reductions to no more than one percentage point per year. Under the previous methodology, OPM set COLA rates to the nearest 2.5 percentage point, and reductions in COLA rates were limited only if caused by changes in the methodology, not relative changes in living costs.

—OPM involves employees in administering the COLA program. Before each survey, OPM establishes COLA Advisory Committees (CACs), which are described below.

2. Preparing for the Survey

2.1 COLA Advisory Committees

Before the Caribbean surveys, OPM established CACs in St. Croix, USVI, St. Thomas/St. John, USVI, and Puerto Rico. The Caraballo settlement provides for employee involvement in the administration of the COLA program, and in the previous two surveys under the COLA Partnership Pilot Project, OPM found it valuable to involve employee and agency representatives in planning and conducting the survey and reviewing the survey results.

Each CAC is composed of approximately 12 agency and employee representatives from the survey area and two representatives from OPM. The CACs' functions include:

—Advising and assisting OPM in planning COLA surveys;

—Providing or arranging for data collection observers during COLA surveys;

—Advising and assisting OPM in reviewing survey data;

—Advising OPM on its COLA program administration, including survey methodology;

—Assisting OPM in disseminating information to affected employees about the surveys and the COLA program; and

—Advising OPM on special situations or conditions, such as hurricanes and earthquakes, as they relate to OPM's authority to conduct interim surveys or implement some other change in response to conditions caused by a natural disaster or similar emergency.

2.2 Pre-Survey Meetings

To help OPM prepare for the COLA surveys, the CACs held 3-day meetings in each of the Caribbean areas. These were joint meetings of the CAC, Survey Implementation Committee (SIC), and Technical Advisory Committee (TAC). The CACs, SIC, and TAC reviewed the preliminary outlet and item lists that OPM had developed for the surveys. The committee members researched the outlets and availability and appropriateness of the items in each area and made recommendations to OPM concerning the survey. OPM incorporated these in its survey design.

OPM found the work of the CACs, SIC, and TAC in the Caribbean to be extremely helpful and informative. The SIC and TAC's knowledge about the Caraballo settlement, the new methodology, and the economic concepts underlying that methodology combined with the CACs' knowledge of the local area, the popularity of items and outlets, and other information about the COLA area were invaluable in helping OPM plan the survey. These joint CAC, SIC, and TAC meetings were particularly important because, under the Caraballo settlement, the SIC and TAC dissolve after the first 3 years of COLA surveys.

2.3 Survey Item Selection

As described above, OPM consulted with the CACs, SIC, and TAC as it selected survey items. OPM identified items to reflect a wide array of items consumers typically purchase. To determine what consumers purchase, OPM used the Bureau of Labor Statistics (BLS) 2000 Consumer Expenditure Survey (CES). OPM aggregated CES expenditures into the following nine major expenditure groups (MEGs):

—Food

—Shelter & Utilities

—Household furnishings and supplies

—Apparel

—Transportation

—Medical

—Recreation

—Education and Communication

—Miscellaneous

OPM further subdivided each MEG into primary expenditure groups (PEGs). In all, there were 45 PEGs. For example, OPM subdivided Food into the following nine PEGs:

—Cereals and Bakery Products

—Meats, Poultry, Fish, and Eggs

—Dairy Products

—Fresh Fruits and Vegetables

—Processed Foods

—Other Food at Home

—Nonalcoholic Beverages

—Food Away from Home

—Alcoholic Beverages

To select survey items, OPM chose a sufficient number of items to represent each PEG and reduce overall price index variability. To do this, OPM applied the following guidelines. Each survey item should be:

—Relatively important (i.e., represent a fairly large expenditure) within the PEG;

—Relatively easy to find in both COLA and DC areas;

—Relatively common, i.e., what people typically buy;

—Relatively stable over time, e.g., not a fad item; and

—Subject to similar supply and demand functions.

In all, OPM selected 312 non-housing items for survey. Appendix 2 shows how OPM organized the CES data into MEGs and PEGs, identifies the Detailed Expenditure Categories (DECs) for which OPM chose survey items, and shows estimated DC area middle income annual consumer expenditures for each DEC and higher level of aggregations.

Appendix 3 lists the non-housing items that OPM surveyed and their descriptions. Each of these items is specifically described with an exact brand, model, type, and size whenever practical. Thus, OPM priced exactly the same items in both the COLA and DC areas. For example, OPM priced a 10.5-ounce can of Campbell's vegetable soup in both the COLA and DC areas because it is typical of canned soups and consumers commonly purchase it.

2.3.1 Special Considerations

Automobile Insurance: OPM was not able to compare exactly the same level of automobile insurance coverage in all areas. State and local jurisdictions regulate car insurance, and the coverage offered varies among the COLA areas and the Washington, DC, area. Therefore, OPM surveyed different levels of automobile insurance coverage in Puerto Rico as compared with the USVI. OPM, however, surveyed both levels of coverage, to the extent possible, in the Washington, DC, area. When OPM made the price comparisons, OPM based the comparison on comparable levels of coverage in the COLA survey area and in the DC area. Table 2 shows the coverage that OPM surveyed.

Table 2.—Automobile Insurance Coverage
Coverage | Puerto Rico and DC area limits and deductibles | USIV and DC area limits and deductibles
Bodily Injury | $100,000/$300,000 | $25,000/$30,000.
Property Damage | $25,000 | $25,000.
Medical | $15,000 | $5,000.
Uninsured Motorist * | $100,000/$300,000 | $25,000/$30,000.
Comprehensive | $100 Deductible | $250 Deductible.
Collision | $250 Deductible | $500 Deductible.
* Not available in Puerto Rico or the Virgin Islands. OPM excluded the Uninsured Motorist cost from Washington, DC, area policies before computing the price index.

Health Insurance: It was not practical to compare the prices of exactly the same quality and quantity of health benefits insurance between the COLA and Washington, DC, areas because the same array of plans are not offered in each area and a significant proportion of Federal employees in both the COLA and DC areas subscribe to plans that are not available nationwide. To compare the employee health benefit premium of these often highly different plans, OPM would have to adjust for differences in benefits and coverage. Research that the parties conducted prior to the Caraballo settlement indicated that this would not be feasible.

Therefore, OPM used the non-Postal Service employee's share of the Federal Employees Health Benefits premiums by plan for each plan offered in each area and obtained from OPM's Central Personnel Data File the number of Federal employees enrolled in each plan. As described in Section 4.2.2 below, OPM used these data to compute the average “price” of health benefits insurance for Federal employees in the COLA and DC areas.

Housing: For housing items, OPM surveyed rental rates for specific kinds or classes of housing but collected a much broader range of information about each housing unit. OPM surveyed the following classes of housing:

—Four bedroom, single family unit, not to exceed 3200 square feet.

—Three bedroom, single family unit, not to exceed 2600 square feet.

—Two bedroom, single family unit, not to exceed 2200 square feet.

—Three bedroom apartment unit, not to exceed 2000 square feet.

—Two bedroom apartment unit, not to exceed 1800 square feet.

—One bedroom apartment unit, not to exceed 1400 square feet.

For each rental unit surveyed, OPM obtained detailed information about the unit. Appendix 4 lists the types of information that OPM collected. OPM did not collect homeowner data, such as mortgage payments, maintenance expenses, or insurance. Under the Caraballo settlement, the parties agreed to adopt a rental equivalence approach similar to the one BLS uses for the Consumer Price Index. Rental equivalence compares the shelter value (rental value) of owned homes rather than total owner costs because the latter are influenced by the investment value of the home (i.e., influenced by what homeowners hope to realize as a profit when they sell their homes). As a rule, living-cost surveys do not compare how consumers invest their money.

In the 2002 survey, OPM surveyed rents and used that as a surrogate for rental equivalence. In the coming year, OPM plans to conduct a special research to obtain additional rent and rental equivalence information to determine whether the approach OPM is currently using is appropriate.

Although OPM surveyed rental rates for the same classes of housing in each area, the type, style, size, quality, and other characteristics of each unit varied within each area and between the COLA and DC areas. As described in Section 4.2.5, OPM used hedonic regression analyses to hold these characteristics constant between the COLA and Washington, DC, area to make rental price comparisons.

2.4 Outlet Selection

Just as it is important to select commonly-purchased items and survey the same items in both the DC area and COLA areas, it is important to select outlets frequented by consumers and find comparable outlets in both the COLA and DC areas. To identify comparable outlets, OPM categorized outlets by type (e.g., grocery store, convenience store, discount store, hardware store, auto dealer, and catalog outlet). For example, OPM surveyed grocery items at supermarkets in all areas because most people purchase their groceries at such stores and because supermarkets exist in nearly all areas. Selecting comparable outlets is particularly important because of the significant price variations that may occur between dissimilar outlets (e.g., comparing the price of milk at a supermarket with the price of milk at a convenience store).

OPM used the above classification criteria and existing data sources, including previous COLA surveys, phone books, and various business listings, to develop initial outlet lists for the survey. OPM provided these lists to the CACs, SIC, and TAC and consulted with them on outlet selection. The committees helped OPM refine the outlet lists and identify other/additional outlets where local consumers generally purchase the items that OPM planned to survey. For example, OPM planned to survey various department store items, such as clothing, but there are no major department stores in the USVI. The St. Croix and St. Thomas/St. John CACs helped OPM identify quality clothing, shoe, and jewelry stores in the USVI to survey. OPM surveyed these outlets and compared their prices with prices from similar quality department stores in the Washington, DC, area. Also, at the CACs' recommendation, OPM used catalog pricing in both Puerto Rico and the USVI, particularly in the USVI because catalog shopping is relatively more popular there.

Whenever OPM used catalog prices, it also priced the same item by catalog in the DC area for comparative purposes. To ensure consistent catalog pricing, OPM used only current catalogs for all catalog survey items. OPM priced 8 items by catalog in Puerto Rico and in the DC area and priced 16 items by catalog in the USVI and the DC area. All catalog prices included any charges for shipping and handling and all applicable taxes.

In all, OPM surveyed prices from approximately 900 outlets. In the COLA survey areas, described below, OPM attempted to survey three popular outlets of each type, to the extent practical. For some outlet types, such as local phone service, there were not three outlets, and in some areas, particularly in the USVI, there were not a sufficient number of businesses to find three outlets of each particular type. This was not generally a problem in Puerto Rico, however. In the Washington, DC, area, OPM attempted to survey nine popular outlets of each type, three in each of the DC survey areas, also described below.

2.5 Geographic Coverage

Table 3 shows the COLA and DC survey area boundaries.

Table 3.—Survey and Data Collection Areas
COLA areas and reference areas | Survey area
Puerto Rico | San Juan/Caguas area and eastern Puerto Rico.*
U.S. Virgin Islands | St. Croix, St. Thomas/St. John area.*
Washington, DC—DC | District of Columbia.**
Washington, DC—MD | Montgomery County and Prince Georges County.**
Washington, DC—VA | Arlington County, Fairfax County, Prince William County, City of Alexandria, City of Fairfax, City of Falls Church, City of Manassas, and City of Manassas Park.**
* OPM collects housing data in St. John and eastern Puerto Rico. OPM may also collect non-housing data from selected outlets in St. John and combine such data with St. Thomas data as provided in § 591.216(b).
** For selected items, such as golf and air travel, these survey areas include additional geographic locations beyond these jurisdictions.

On St. Croix and St. Thomas, OPM surveyed businesses in essentially all of the major commercial areas. As recommended by the St. Thomas/St. John CAC, OPM also surveyed selected businesses on St. John. OPM surveyed rental rates throughout the USVI, selecting sample sizes for each island roughly in proportion to the number of General Schedule employees whose duty station is on the island and who receive COLA.

In Puerto Rico, OPM surveyed businesses in the major commercial areas in the greater San Juan-Caguas area. OPM surveyed rental rates in the San Juan-Caguas area and in the communities north and east of San Juan including communities in the Roosevelt Roads area. In selecting these communities and sample sizes of each, OPM used the results of the 1993-94 Federal Employee Housing and Living Patterns Survey. Among other things, that survey obtained information on where Federal employees lived.

OPM divides the Washington, DC, area into three survey areas: the District of Columbia, the DC suburban areas of Maryland, and the DC suburban areas of northern Virginia. For certain items, OPM surveys prices in areas beyond the counties and cities shown in the table above. For example, OPM surveyed the cost of air travel from Ronald Reagan Washington National Airport, Washington Dulles International Airport, and Baltimore/Washington International Airport (BWI). OPM also surveyed the price of a 5-mile taxi ride originating at these airports. Both Dulles and BWI, however, are outside the counties and cities shown in the above table. Nevertheless, these airports are commonly used by residents of the DC area for air travel.

OPM surveyed rental rates in the same three DC survey areas. As with the Puerto Rico survey, OPM used the results of the 1993-94 Federal Employee Housing and Living Patterns Survey to select communities within these areas and to determine the sample size for each community.

3. Conducting the Survey

3.1 Pricing Period

OPM collected data from late June 2002 through early November. OPM collected non-housing price data onsite in the USVI from June 24 through July 12, 2002, and in Puerto Rico from July 15 through August 2, 2002. OPM collected non-housing data in the DC areas beginning August 5 and completed most of the collection by mid-September 2002. OPM continued to check and collect non-housing prices on an as-needed basis through November 2002. OPM contracted for the collection of rental data. That data collection began in the Caribbean areas in mid-July and ended with the delivery of the data to OPM on November 8, 2002.

3.2 Non-Housing Price Data Collection

3.2.1 Data Collection Teams

In both the COLA and Washington, DC, areas, OPM central office staff collected non-housing price data. In the COLA areas, data collection observers designated by the local CAC accompanied the OPM data collectors. Data collection observers were extremely helpful to OPM and the survey process by advising and assisting the data collectors in contacting outlets, matching items, and selecting substitutes. The observers also advised OPM on other living-cost and compensation issues relating to their areas. OPM did not use data collection observers in the Washington, DC, area, but OPM made available to the CACs all of the DC area data it collected.

3.2.2 Data Collection Process

The data collector/observer teams obtained most of the data by visiting stores, auto dealers, and other outlets. The teams also priced items, such as insurance, tax preparation fees, bank interest, and private education tuition, by telephone. As noted above, OPM surveyed some items via catalog, including all shipping costs and any applicable taxes in the price. OPM also collected other items, such as sales tax rates and airline fares, from Web sites on the Internet.

For all items subject to sales and/or excise taxes, OPM added the appropriate amount of tax to the price for computing COLA rates. For some items, such as restaurant meals, tax rates varied by location.

The data collectors collected the price of the item at the time of the visit to the outlet. Therefore, with certain exceptions, the data collectors collected the sale price, if the item was on sale, and that was used in the COLA calculations. The exceptions include coupon prices, going-out-of-business prices, clearance prices, and area-wide distress sales, which OPM does not use because they are atypical and/or seasonal. OPM also does not collect automobile “sale” or negotiated prices. Instead, OPM obtains the sticker (i.e. non-negotiated) price for the model and specified options. The prices are the manufacturer's suggested retail price (including options), destination charges, additional shipping charges, appropriate dealer-added items or options, dealer mark-up, and taxes, including sales tax, licensing and title fees, road use tax, and an excise tax (“arbitrio”) in Puerto Rico.

3.3 Housing (Rental) Price Data Collection

OPM contracted for the collection of rental data. The contractor was Delta-21 Resources, Incorporated, a research organization with expertise in housing and rental data collection. Delta-21 collected data throughout the Caribbean and DC areas. These data included rental prices, comprehensive information about the size and type of dwelling, number and types of rooms, amenities, and other important aspects of the dwelling that might influence the rental price. Appendix 4 lists the data elements that the contractor collected.

The contractor identified units for rent from various sources, including rental property managers, realtor brokers, listing services, newspaper ads, grocery store bulletin boards, and casual drive-by observation. The contractor then visited each rental unit, took a photograph of the unit, and made a sketch of the floor plan based on exterior dimensions and shape. OPM made these data available to the CACs, including the photographs and sketches.

4. Analyzing the Results

4.1 Data Review

During and after the data collection process, the data collectors reviewed the data for errors and omissions. This involved reviewing the data item-by-item and comparing prices across outlets within an area to spot data entry errors, mismatches, and other mistakes.

After all of the data had been collected in both the COLA areas and Washington, DC, area, OPM staff again reviewed the data by item across all of the areas. One purpose was to spot errors not previously detected, but the principle reasons were to look at equivalent brands and substitute items.

An equivalent brand is one that has the same size, quality, and price as another brand for the same type of item. Despite the pre-survey research, OPM discovered after the survey that some of the brands thought to be equivalent were often priced differently within the same outlet across areas. For example, prior to the survey, OPM specified Post Raisin Bran and Kellogg's Raisin Bran as equivalent brands. During the post-survey data review, however, OPM found that within the same outlet the regular price of one brand was usually higher than the price of the other brand. Therefore, OPM concluded that the cereals were not equivalent in price; and during the post-survey review, OPM decided to use only the Post Raisin Bran prices.

A substitute is an item that is similar but does not exactly match the item description of the specified survey item. For example, OPM specified an Egg McMuffin Value Meal as an item to survey as a Fast Food Breakfast. The data collectors in Puerto Rico, however, discovered that McDonald's in the San Juan area do not sell Egg McMuffins. So, the data collectors priced a Ham, Egg, and Cheese Bagel Value meal as a substitute. OPM then priced both types of breakfast value meals in the DC area and used the Egg McMuffin Value Meal prices for the USVI and DC area comparison and the Bagel Value Meal prices for the Puerto Rico/DC area comparison.

4.2 Special Price Computations

After OPM completed its data review, it was essentially ready to begin the price averaging process described in section 4.3. First, however, OPM had to make special price computations for five survey items: K-12 private education, Federal Employees Health Benefits premiums, energy utility prices, and rental prices. For each of these, OPM used special processes to calculate appropriate values for each survey area.

4.2.1 K-12 Private Education

One of the items OPM surveyed is the average annual tuition for private education, grades K-12 in each area. Generally, tuition rates varied by grade level, so OPM computed an overall average tuition “price” for each school surveyed by averaging the tuition rates grade-by-grade. Section 4.4.2 below describes the additional special adjustments OPM applied to these “prices” in the price comparison process.

4.2.2 Health Insurance

As noted in Section 2.3.1, OPM surveyed the non-Postal employee's premium for the various Federal Employees Health Benefit plans offered in each survey area. Using enrollment information from OPM's Central Personnel Data File (CPDF), OPM computed two weighted average premium costs—one for self-only coverage and another for family coverage—for Federal white-collar employees in each of the COLA areas and the Washington, DC, area. As shown in Table 4, OPM then computed an overall weighted average premium for each survey area by applying the number of white-collar Federal employees nationwide enrolled in self-only and family plans. OPM used these overall weighted average premiums as “prices” in the price averaging process described in section 4.3 below.

Table 4.—2002 Average FEHB Premiums for Full-Time Permanent Employees—Employees' Share for Non-Postal Employees
Location | Self premium | Family premium | Bi-weekly weighted average premium | Annual weighted average premium
Puerto Rico | $23.47 | $49.94 | $39.85 | $1,039.66
USVI | $43.77 | $92.72 | $74.05 | $1,931.91
DC Area | $37.12 | $84.96 | $66.72 | $1,740.68
50 States Enrollment | 571,014 | 926,439 |  |
Percent | 38.13 | 61.87 |  |

4.2.3 Water Utilities

OPM surveyed water utility rates in each of the COLA and Washington, DC, survey areas. In the USVI, where rainwater cisterns are widely used, OPM obtained water utility rates only for customers who are on municipal water systems. To compute the “price” of water utilities, OPM assumed that the average monthly water consumption in each area was 7,600 gallons. This is consistent with the consumption amount OPM used in the previous COLA survey. OPM used this quantity along with the rates charged to compute the average monthly water utility cost by survey area. OPM used these average monthly costs as “prices” in the price averaging process described in section 4.3 below.

4.2.4 Energy Utilities Model

For energy utilities (i.e., electricity, gas and oil), OPM collected from local utility companies and suppliers in each of the COLA and DC survey areas the price of various energy utilities used for lighting, cooking, heating, cooling, and other household needs. In previous surveys, OPM also obtained average local household energy consumption and used this information along with the prices surveyed to compute annual utility costs. A shortcoming of this approach was that usage varies among areas depending on several variables including climate, type of home construction, and type of heating and/or cooling technology (e.g., central air conditioning versus window-unit air conditioning). Therefore, in the Caraballo settlement, the parties agreed to a new methodology for computing utility costs.

The new methodology uses a heating and cooling engineering model along with local home construction information and climatic data from the National Oceanic and Atmospheric Administration (NOAA) to determine how many kilowatt hours of electricity, cubic feet of gas, and/or gallons of fuel oil are needed to maintain a home at a constant ambient temperature in each area. Although some homes use additional heating and cooling technologies, such as wood, coal, kerosene, and solar energy, OPM did not price or include these in the calculations because, based on the results of the 1992-93 Federal Employee Housing and Living Patterns Survey, relatively few Federal employees use these as primary sources of energy in their homes.

For Puerto Rico and the USVI, OPM surveyed the price of electricity for heating, cooling, and other household energy utility needs because the Employee Survey indicated that was by far the most popular energy source. For the Washington, DC area, OPM surveyed the prices of electricity, natural gas, and fuel oil to compute home energy costs for all electric homes, gas heated homes, and fuel oil heated homes. OPM then used the results of the Federal Employee survey to compute a weighted average cost for each of the DC areas based on the relative usage of each type of heating energy source.

Table 5 shows the energy usage and utility costs by month for the Caribbean and DC areas. The energy usage for both Puerto Rico and the USVI is the same because the model assumed that home construction is comparable in both areas and assumed that the weather is the same because NOAA publishes Caribbean data only for Puerto Rico. Therefore, the model used these data for the USVI. The table shows for comparison purposes only the energy usage by month for an all-electric home in the DC area, although as noted above, the model actually computed utility costs for all electric, gas and electric, and oil and electric homes. OPM used the weighted annual costs shown in the bottom row of the table as “prices” in the price averaging process described in section 4.3.

Table 5.—2002 Energy Utility Costs
Month | Caribbean areas: KWH | Caribbean areas: Puerto Rico | Caribbean areas: USVI | Washington, DC, area: KWH * | Washington, DC, area: All electric | Washington, DC, area: Gas and electric | Washington, DC, area: Oil and electric
January | 2318 | $241.33 | $366.10 | 3326 | $238.29 | $157.51 | $171.41
February | 2225 | 233.47 | 351.75 | 2688 | 194.20 | 122.49 | 142.59
March | 2649 | 265.21 | 417.18 | 1812 | 133.66 | 95.64 | 108.20
April | 2746 | 289.11 | 432.15 | 966 | 75.12 | 69.50 | 73.73
May | 2980 | 345.82 | 468.26 | 1170 | 89.27 | 86.43 | 88.96
June | 3086 | 346.27 | 484.62 | 1377 | 132.09 | 114.38 | 131.25
July | 3197 | 354.48 | 501.75 | 1648 | 159.52 | 140.46 | 158.27
August | 3226 | 335.89 | 506.23 | 1566 | 151.22 | 132.74 | 150.08
September | 2938 | 315.63 | 461.78 | 1246 | 118.83 | 100.22 | 118.30
October | 2921 | 321.60 | 459.16 | 975 | 88.21 | 69.82 | 86.41
November | 2546 | 277.45 | 401.29 | 1797 | 132.62 | 95.63 | 107.63
December | 2348 | 263.74 | 370.58 | 2797 | 210.21 | 140.22 | 153.37
Totals | 33180 | $3,590.00 | $5,220.85 | 21368 | $1,723.25 | $1,325.04 | $1,490.20
Relative Usage (in percent) |  | 100 | 100 |  | 45 | 45 | 10
Wtd. Average |  | $3,590 | $5,220.85 |  | $1,520.75
* DC area all electric usage. Shown only for comparison with Caribbean usage. OPM used DC area all electric KWH usage only for all electric homes. OPM used lower KWH usages for gas and oil homes.

4.2.5 Rental Data Hedonic Models

As discussed in Section 3.3, OPM hired a contractor to collect rental data, including rents and data about the characteristics of each rental unit. OPM hired another contractor, the Center of International and Interarea Comparisons (CIIC), to analyze the housing data and estimate relative rental rates and rental indexes. CIIC is well-known for its work in international price comparisons, and one of its co-directors of research is a member of the TAC. CIIC consulted closely with the TAC and the SIC in analyzing the rental survey results.

As prescribed by OPM regulations and the Caraballo settlement, CIIC used hedonic regression analysis, which is a type of multiple linear regression analysis, to compare rents in the COLA areas with rents in the DC area. Multiple linear regression is used to determine how the dependent variable (in this case rent) is influenced by the independent variables (in this case the characteristics of the rental unit). CIIC found that only some of the housing characteristics that Delta-21 collected were statistically meaningful in determining what influenced rent in the Puerto Rico, USVI, and DC areas. CIIC tested various approaches using different characteristics and shared the results with the TAC. The TAC recommended one specific equation, which OPM adopted. This equation used the independent variables listed below, although some of the variables were “crossed” (i.e., used interactively) with other variables:

Number of square feet

Number of bedrooms

Number of bathrooms

Number of years since built or extensively remodeled

Parking provided (yes/no)

Pets Allowed (yes/no)

Furnished (yes/no)

External condition (good, average, poor)

Quality of Neighborhood (desirable, less desirable)

Unit Type 1 (a: high rise apartment, b: garden or in-home apartment, c: house)

Unit Type 2 (a: high rise, garden, or in-home apartment, b: house)

Area (St. Croix, St. Thomas/St. John, Puerto Rico, Washington, DC, area)

As is common in this type of analysis and as was done in the research leading to the Caraballo settlement, CIIC used semi-logarithmic regressions. The regression produces parameter estimates for each independent variable, including Area. When the regression uses the Washington, DC, area as the base, the regression produces parameter estimates for each of the COLA survey areas: St. Croix, St. Thomas/St. John, and Puerto Rico. The exponent of the Area parameter estimate (i.e., when the estimate is converted from natural logarithms) multiplied by 100 (following the convention used to express indexes) yields the Area's rent index. This index reflects the difference in rents for the COLA survey area relative to the Washington, DC, area, while (in effect) holding other significant housing characteristics constant.

The TAC recommended a technical adjustment to the above calculations to correct for a slight bias caused by the use of logarithms. The exponent of the average of the logarithms of a series of numbers is always less than the average of the numbers. Therefore, at the TAC's recommendation, OPM added one-half of the standard deviation of the Area parameter estimate before converting from natural logarithms. (See Arthur Goldberger, “Best Linear Unbiased Prediction in the Generalized Linear Regression Model,” Journal of the American Statistical Association, 1962.) Table 6 shows the resulting rental indexes. OPM used these indexes as “prices” in the price averaging process described in section 4.3.

Table 6.—Rent Indexes
Area | Rent index
Puerto Rico | 65.52
St. Croix, USVI | 67.50
St. Thomas/St. John, USVI | 84.22
Washington, DC, Area | * 100.00
* By definition, the index of the base area is always 100.00.

Appendix 5 shows the regression equation in SAS code and the regression results. (SAS is a proprietary statistical analysis computer software package.) The TAC recommended that OPM review the issue of which equation to use and how to choose among equations as additional rental data become available during the Alaska and Pacific COLA surveys. OPM plans to do this.

4.3 Averaging Prices by Item and Area

After OPM collected, reviewed, and made special adjustments as required to the data, OPM averaged the prices for each item by COLA survey area. For example, OPM priced canned soup at three different grocery stores on St. Croix, then averaged these prices to compute a single average price for canned soup on St. Croix. If the OPM data collectors reported more than one price for a particular item within the same outlet (e.g., for equivalent items as described in Section 4.1 above), OPM used the lowest price by item by outlet to compute the average. (The concept is that if the item and brands are equivalent, consumers will choose the one with the lowest price.) OPM repeated this averaging process item-by-item and area-by-area.

4.3.1 Special St. Thomas/St. John Computations

For St. Thomas and St. John, OPM applied an additional step. As noted in Section 2.5 above, the St. Thomas/St. John CAC recommended that OPM survey and use non-housing price data from selected outlets on St. John. OPM did this and computed average prices by item on St. John. OPM then combined these St. John average prices with St. Thomas average prices on an item-by-item basis to compute a St. Thomas/St. John weighted average price for each item found in both areas. For weights, OPM used the number of General Schedule (GS) employees with duty stations on St. John and with duty stations on St. Thomas expressed as a percentage of the GS employment on St. Thomas and St. John combined. Table 7 shows the weights.

Table 7.—St. Thomas and St. John Employment Weights
Area | GS Employment | Weight (percent)
St. Thomas, USIV | 224 | 79.7
St. John, USVI | 57 | 20.3
Total | 281 | 100.00

4.3.2 Computing DC Area Average Prices

For Washington, DC, area prices, OPM first averaged prices within each of the three DC survey areas described in Section 2.5. Then OPM computed a simple average of the three DC area survey averages to derive a single DC area average price for each survey item.

4.4 Computing Price Indexes

Next, OPM computed a price index for each of the items found in both the COLA survey area and in the Washington, DC, area. To do this, OPM divided the COLA survey area average price by the DC area average price and (following the convention used to express indexes) multiplied this by 100. For the vast majority of survey items, OPM's next step was to apply consumer expenditure weights. For a few items, however, OPM first applied special processes as described below.

4.4.1 Geometric Means

As described in Section 2.3, OPM selected survey items to represent selected detailed expenditure categories (DEC). Generally, OPM surveyed only one item per DEC, but in a few cases, OPM surveyed multiple items at a single DEC. In these cases, OPM computed the geometric mean of the price indexes to derive a single price index for the DEC. (A geometric mean is the nth root of the product of n different numbers and is often used in price index computations.) For example, OPM surveyed two prescription drugs—Amoxicillin and Prilosec. These two different prescription drugs represent a single DEC called “prescription drugs.” To derive a single price index for the DEC, OPM computed the geometric mean of the price index for amoxicillin and the price index for Prilosec.

4.4.2 Special Private Education Computations

As noted in Section 4.2.1, OPM surveyed K-12 private education in the COLA and DC areas and computed an average tuition “price” that reflected all grade levels. Because not everyone sends children to private school, OPM made an additional special adjustment for K-12 education by applying “use factors.” These use factors reflect the relative extent to which Federal employees make use of private education in the COLA and DC areas. For example, Table 8 below shows a use factor of 4.1066 for Puerto Rico. OPM computed this by dividing 54.33 percent (the percentage of Puerto Rico Federal employees with at least one child in a private school) by 13.23 percent (the percent of DC area Federal employees with at least one child in a private school). OPM obtained the percentages from the results of the 1992/93 Federal Employee Housing and Living Patterns Survey. This is the most current comprehensive data available. The table below shows the use factors and the adjusted price indexes for each COLA survey area.

Table 8.—Summary of Private Education Use Factors and Indexes
COLA survey area | Employees w/children in private schools: Local area | Employees w/children in private schools: DC area | Use factor | Price index | Prince index w/use factor
Puerto Rico | 54.33 | 13.23 | 4.1066 | 52.68 | 216.35
St. Croix | 57.27 | 13.23 | 4.3288 | 62.14 | 268.97
St. Thomas | 51.90 | 13.23 | 3.9229 | 48.05 | 188.50

4.5 Applying Consumer Expenditure Weights

Next, OPM applied consumer expenditure weights to aggregate price indexes by expenditure group. As noted in Section 2.3, OPM used the results of the BLS Consumer Expenditure Survey to estimate the amounts that middle income level consumers in the DC area spend on various items. By using expenditure weights, OPM was able to combine the price indexes according to their relative importance. For example, shelter is the most important expenditure in terms of the COLA survey and represents about 28 percent of total consumer expenditures. On the other hand, the purchase of newspapers at newsstands represents less that a ⅒th of 1 percent of total expenditures.

Beginning at the lowest level of expenditure aggregation (e.g., sub-PEG), OPM computed the relative importance in percent of each survey item within the level of aggregation, multiplied the price index times its expenditure percentage, and summed the cross products for all of the items within the level of aggregation to compute a weighted price index for that level. OPM repeated this process at each higher level of aggregation (e.g., PEG and MEG). Appendices 6 and 7 show these calculations for each COLA survey area at the PEG and MEG level.

The above process resulted in an overall price index for Puerto Rico (shown in Appendix 6) but not for the U.S. Virgin Islands, which has two separate COLA survey areas. To compute an overall price index for the U.S. Virgin Islands, OPM computed weights based on the number of GS employees stationed on St. Croix versus St. Thomas/St. John. OPM then multiplied each of the MEG indexes for St. Croix and St. Thomas/St. John by their respective GS employment weights and summed the cross products to produce an overall price index for the U.S. Virgin Islands. (See Appendix 7.) Table 9 shows the weights OPM used.

Table 9.—St. Croix, and St. Thomas/St. John Employment Weights
Area | GS Employment | Weight (percent)
St. Croix, US VI | 221 | 48.3
St. Thomas/St. John, USVI | 281 | 51.7
Total | 502 | 100.00

5. Final Results

To compute the overall living-cost index, OPM added to the price index a non-price adjustment factor. The parties in Caraballo negotiated these factors to reflect differences in living costs that might not be captured by the surveys, and OPM adopted these factors in regulation as part of the new methodology. The factors for Puerto Rico and the U.S. Virgin Islands are seven and nine index points respectively. The resulting living-cost indexes are shown in Table 10.

Table 10.—Final Living-Cost Comparison Indexes
Allowance area | Index
Puerto Rico | 103.60
U.S. Virgin Islands | 121.44

6. Post Survey Meetings

In December 2002, the CACs, SIC, and TAC held 1-day joint meetings in each of the Caribbean survey areas to review the survey results. OPM provided the committee members with various reports showing all the data that OPM collected, examples of how OPM reviewed these data, the data that OPM used in its analyses, and the results at the PEG and MEG level, as shown in Appendix 6. Members of the TAC explained how the rental data were analyzed and how OPM used expenditure weights to combine price indexes to reflect overall living costs. OPM described changes that it planned to incorporate in its regulations as a result of what it learned in the 2002 surveys. (See OPM's proposed rulemaking under 5 CFR part 591 published concurrent with this notice.)

In the St. Thomas/St. John CAC, SIC, and TAC meeting, OPM briefed the committees on the results of the St. John non-housing price test survey. The St. Thomas/St. John CAC recommended that OPM include St. John non-housing price data in the 2002 survey and in future COLA surveys. OPM agreed with the CAC and included this change among the other proposed COLA regulatory changes.

Appendix 1.—Publication in the Federal Register of Prior Survey Results: 1990-1998
Citation | Contents
65 FR 44103 | Report on 1998 living-cost surveys conducted in Alaska, Hawaii, Guam, Puerto Rico, and the U.S. Virgin Islands.
63 FR 56432 | Report on 1997 living-cost surveys conducted in Alaska, Hawaii, Guam, Puerto Rico, and the U.S. Virgin Islands.
62 FR 14190 | Report on 1996 living-cost surveys conducted in Alaska, Hawaii, Guam, Puerto Rico, and the U.S. Virgin Islands.
61 FR 4070 | Report on winter 1995 living-cost surveys conducted in Alaska.
60 FR 61332 | Report on summer 1994 living-cost surveys conducted in Hawaii, Guam, Puerto Rico, and the U.S. Virgin Islands.
59 FR 45066 | Report on winter 1994 living-cost surveys conducted in Alaska.
58 FR 45558 | Report on summer 1992 and winter 1993 living-cost surveys conducted in Alaska, Hawaii, Guam, Puerto Rico, and the U.S. Virgin Islands.
58 FR 27316 | Report on summer 1993 living-cost surveys conducted in Hawaii, Guam, Puerto Rico, and the U.S. Virgin Islands.
57 FR 58556 | Report on summer 1991 and winter 1992 living-cost surveys conducted in Alaska, Hawaii, Guam, Puerto Rico, and the U.S. Virgin Islands.
56 FR 7902 | Report on summer 1990 living-cost surveys conducted in Alaska, Hawaii, Guam, Puerto Rico, and the U.S. Virgin Islands.

Appendix 2—Estimated DC Area Middle Income Annual Consumer Expenditures
[Asterisks show Detailed Expenditure Categories (DECs) at which OPM surveyed items]
Level | Code |  | Category name | Expenditures
1 | TOTALEXP |  | Total | $48,701.32
2 | FOODTOTL | MEG | Food | 6,407.88
3 | CERBAKRY | PEG | Cereals and bakery products | 477.67
4 | CEREAL |  | Cereals and cereal products | 157.97
5 | 010110 |  | Flour | 7.33
5 | 010120 |  | Prepared flour mixes | 15.88
5 | 010210 |  | Ready-to-eat and cooked cereals* | 89.31
5 | 010310 |  | Rice* | 19.07
5 | 010320 |  | Pasta, cornmeal & other cereal products* | 26.38
4 | BAKERY |  | Bakery products | 319.69
5 | BREAD |  | Bread | 88.26
6 | 020110 |  | White bread* | 39.13
6 | 020210 |  | Bread, other than white | 49.13
5 | CRAKCOOK |  | Crackers and cookies | 79.90
6 | 020510 |  | Cookies* | 55.56
6 | 020610 |  | Crackers | 24.34
5 | 020810 |  | Frozen & refrigerated bakery products* | 27.04
5 | OTHBAKRY |  | Other bakery products | 124.49
6 | 020310 |  | Biscuits and rolls* | 41.38
6 | 020410 |  | Cakes and cupcakes* | 39.84
6 | 020620 |  | Bread and cracker products | 4.65
6 | 020710 |  | Sweetrolls, coffee cakes, doughnuts | 24.13
6 | 020820 |  | Pies, tarts, turnovers | 14.49
3 | ANIMAL | PEG | Meats, poultry, fish, and eggs | 714.81
4 | BEEF |  | Beef | 192.11
5 | 030110 |  | Ground beef* | 71.80
5 | ROAST |  | Roast | 28.82
6 | 030210 |  | Chuck roast* | 10.33
6 | 030310 |  | Round roast* | 8.66
6 | 030410 |  | Other roast | 9.83
5 | STEAK |  | Steak | 78.30
6 | 030510 |  | Round steak* | 12.86
6 | 030610 |  | Sirloin steak* | 25.26
6 | 030710 |  | Other steak | 40.18
5 | 030810 |  | Other beef | 13.18
4 | PORK |  | Pork | 98.96
5 | 040110 |  | Bacon* | 15.17
5 | 040210 |  | Pork chops* | 23.31
5 | HAM |  | Ham | 22.35
6 | 040310 |  | Ham, not canned* | 21.13
6 | 040610 |  | Canned ham* | 1.23
5 | 040510 |  | Sausage | 13.87
5 | 040410 |  | Other pork | 24.25
4 | OTHRMEAT |  | Other meats | 91.73
5 | 050110 |  | Frankfurters* | 17.00
5 | LNCHMEAT |  | Lunch meats (cold cuts) | 61.47
6 | 050210 |  | Bologna, liverwurst, salami* | 20.68
6 | 050310 |  | Other lunch meats | 40.79
5 | LAMBOTHR |  | Lamb, organ meats and others | 13.26
6 | 050410 |  | Lamb and organ meats | 9.10
6 | 050900 |  | Mutton, goat and game | 4.16
4 | POULTRY |  | Poultry | 129.18
5 | CHICKEN |  | Fresh and frozen chickens | 102.64
6 | 060110 |  | Fresh and frozen whole chicken* | 28.33
6 | 060210 |  | Fresh and frozen chicken parts* | 74.32
5 | 060310 |  | Other poultry | 26.54
4 | FISHSEA |  | Fish and seafood | 175.60
5 | 070110 |  | Canned fish and seafood* | 25.31
5 | 070230 |  | Fresh fish and shellfish* | 101.05
5 | 070240 |  | Frozen fish and shellfish* | 49.24
4 | 080110 |  | Eggs* | 27.24
3 | DAIRY | PEG | Dairy products | 316.36
4 | MILKCRM |  | Fresh milk and cream | 105.55
5 | 090110 |  | Fresh milk, all types* | 96.70
5 | 090210 |  | Cream | 8.85
4 | OTHDAIRY |  | Other dairy products | 210.81
5 | 100110 |  | Butter | 17.39
5 | 100210 |  | Cheese* | 108.29
5 | 100410 |  | Ice cream and related products* | 60.12
5 | 100510 |  | Miscellaneous dairy products | 25.01
3 | FRUITVEG | PEG | Fruits and vegetables | 356.11
4 | FRSHFRUT |  | Fresh fruits | 186.75
5 | 110110 |  | Apples* | 33.23
5 | 110210 |  | Bananas* | 37.03
5 | 110310 |  | Oranges* | 21.81
5 | 110510 |  | Citrus fruits, excluding oranges | 16.87
5 | 110410 |  | Other fresh fruits | 77.80
4 | FRESHVEG |  | Fresh vegetables | 169.35
5 | 120110 |  | Potatoes* | 30.09
5 | 120210 |  | Lettuce* | 22.63
5 | 120310 |  | Tomatoes* | 33.65
5 | 120410 |  | Other fresh vegetables | 82.98
3 | PROCFOOD | PEG | Processed Foods | 748.33
4 | PROCFRUT |  | Processed fruits | 127.16
5 | FRZNFRUT |  | Frozen fruits and fruit juices | 14.55
6 | 130110 |  | Frozen orange juice* | 6.32
6 | 130121 |  | Frozen fruits | 3.75
6 | 130122 |  | Frozen fruit juices | 4.48
5 | 130310 |  | Canned fruits* | 17.90
5 | 130320 |  | Dried fruit | 5.68
5 | 130211 |  | Fresh fruit juice | 24.72
5 | 130212 |  | Canned and bottled fruit juice* | 64.32
4 | PROCVEG |  | Processed vegetables | 113.36
5 | 140110 |  | Frozen vegetables* | 35.60
5 | CANDVEG |  | Canned and dried vegetables and juices | 77.76
6 | 140210 |  | Canned beans* | 16.60
6 | 140220 |  | Canned corn | 9.51
6 | 140230 |  | Canned miscellaneous vegetables | 23.67
6 | 140320 |  | Dried peas | 0.36
6 | 140330 |  | Dried beans | 3.64
6 | 140340 |  | Dried miscellaneous vegetables | 9.69
6 | 140310 |  | Dried processed vegetables | 0.68
6 | 140410 |  | Frozen vegetable juices | 0.45
6 | 140420 |  | Fresh and canned vegetable juices | 13.16
4 | MISCFOOD |  | Miscellaneous foods | 507.81
5 | FRZNPREP |  | Frozen prepared foods | 87.37
6 | 180210 |  | Frozen meals* | 26.12
6 | 180220 |  | Other frozen prepared foods | 61.25
5 | 180110 |  | Canned and packaged soups* | 34.37
5 | SNACKS |  | Potato chips, nuts, and other snacks | 95.21
6 | 180310 |  | Potato chips and other snacks* | 76.37
6 | 180320 |  | Nuts | 18.83
5 | CONDMNTS |  | Condiments and seasonings | 86.66
6 | 180410 |  | Salt, spices, other seasonings* | 20.88
6 | 180420 |  | Olives, pickles, relishes | 9.46
6 | 180510 |  | Sauces and gravies* | 39.77
6 | 180520 |  | Baking needs & misc. products | 16.55
5 | OTHRPREP |  | Other canned & pkgd prepared foods | 144.39
6 | 180611 |  | Prepared salads | 18.08
6 | 180612 |  | Prepared desserts* | 9.58
6 | 180620 |  | Baby food* | 38.38
6 | 180710 |  | Miscellaneous prepared foods | 78.20
6 | 180720 |  | Vitamin supplements | 0.15
5 | 190904 |  | Food prepared by consumer on trips | 59.81
3 | OTHRFOOD | PEG | Other food at home | 202.69
4 | SWEETS |  | Sugar and other sweets | 126.14
5 | 150110 |  | Candy and chewing gum* | 85.89
5 | 150211 |  | Sugar* | 17.15
5 | 150212 |  | Artificial sweeteners | 2.84
5 | 150310 |  | Jams, preserves, other sweets* | 20.25
4 | FATSOILS |  | Fats and oils | 76.55
5 | 160110 |  | Margarine* | 10.13
5 | 160211 |  | Fats and oils* | 20.82
5 | 160212 |  | Salad dressings* | 26.16
5 | 160310 |  | Nondairy cream and imitation milk | 9.00
5 | 160320 |  | Peanut butter | 10.44
3 | NALCBEVG |  | Nonalcoholic beverages | 239.71
4 | 170110 |  | Cola* | 86.72
4 | 170210 |  | Other carbonated drinks | 47.55
4 | COFFEE |  | Coffee | 37.70
5 | 170310 |  | Roasted coffee* | 25.07
5 | 170410 |  | Instant and freeze dried coffee | 12.63
4 | 170510 |  | Noncarbonated fruit flavored drinks* | 18.80
4 | 170520 |  | Tea | 14.47
4 | 200112 |  | Nonalcoholic beer | 0.37
4 | 170530 |  | Other nonalcoholic beverages and ice* | 34.10
3 | FOODAWAY | PEG | Food away from home | 2,885.84
4 | RESTRANT |  | Meals at restaurants, carry-outs and other | 2,459.35
5 | LUNCH |  | Lunch | 938.18
6 | 190111 |  | Lunch at fast food, take-out, etc.* | 515.26
6 | 190112 |  | Lunch at full service restaurants* | 284.21
6 | 190113 |  | Lunch at vending machines & vendors | 9.97
6 | 190114 |  | Lunch at employer and school cafeterias | 128.73
5 | DINNER |  | Dinner | 947.59
6 | 190211 |  | Dinner at fast food, take-out, etc.* | 311.43
6 | 190212 |  | Dinner at full service restaurants* | 629.98
6 | 190213 |  | Dinner at vending machines & vendors | 1.76
6 | 190214 |  | Dinner at employer and school cafeterias | 4.43
5 | SNKNABEV |  | Snacks and nonalcoholic beverages | 344.59
6 | 190311 |  | Snacks, etc. at fast food, take-out, etc.* | 229.29
6 | 190312 |  | Snacks, etc. at full service restaurants | 26.13
6 | 190313 |  | Snacks, etc. at vending machines, etc | 70.07
6 | 190314 |  | Snacks, etc. at non-public cafeterias | 19.10
5 | BRKFBRUN |  | Breakfast and brunch | 228.99
6 | 190321 |  | Breakfast at fast food, take-out, etc.* | 110.28
6 | 190322 |  | Breakfast at full service restaurants* | 110.80
6 | 190323 |  | Breakfast at vending machines, etc. | 1.71
6 | 190324 |  | Breakfast at non-public cafeterias | 6.20
4 | NONRESME |  | Non Restaurant Meals | 426.48
5 | 190901 |  | Board (including at school) | 21.15
5 | 190902 |  | Catered affairs | 49.65
5 | 190903 |  | Food on out-of-town trips | 251.16
5 | 790430 |  | School lunches | 79.99
5 | 800700 |  | Meals as pay | 24.54
3 | ALCBEVG | PEG | Alcoholic beverages | 466.36
4 | ALCHOME |  | At home | 269.33
5 | 200111 |  | Beer and ale* | 151.40
5 | 200210 |  | Whiskey | 20.56
5 | 200310 |  | Wine* | 72.76
5 | 200410 |  | Other alcoholic beverages | 24.61
4 | ALCAWAY |  | Away from home | 197.04
5 | BEERNALE |  | Beer and ale | 97.03
6 | 200511 |  | Beer & ale at fast food, take-out, etc. | 19.20
6 | 200512 |  | Beer & ale at full service restaurants* | 65.30
6 | 200513 |  | Beer & ale at vend. machines & vendors | 1.09
6 | 200516 |  | Beer & ale at catered affairs | 11.44
5 | WINE |  | Wine | 24.93
6 | 200521 |  | Wine at fast food, take-out, delivery, etc. | 2.06
6 | 200522 |  | Wine at full service restaurants* | 21.66
6 | 200526 |  | Wine at catered affairs | 1.21
5 | OTHALCBV |  | Other alcoholic beverages | 75.07
6 | 200531 |  | Other alcohol at fast food, take-out, etc. | 4.90
6 | 200532 |  | Other alcohol at full service restaurants | 31.55
6 | 200533 |  | Other alcohol at vending machines, etc. | 0.53
6 | 200536 |  | Other alcohol at catered affairs | 5.04
6 | 200900 |  | Alcoholic beverages purchased on trips | 33.04
2 | SHEL&UTL | MEG | Shelter and Utilities | 15,244.33
3 | SHELTER | PEG | Shelter | 13,669.60
4 | RNTLEQ |  | Rented Equivalence* | 9,870.46
4 | RENTXX |  | Rented Dwelling* | 3,060.99
4 | OTHLODGE |  | Other Lodging | 707.16
4 | 350110 |  | Tenants Insurance* | 30.99
3 | ENERUT | PEG | Energy Utilities* | 1,289.59
3 | WATERX | PEG | Water and other public services* | 285.14
2 | HHF&SUPP | MEG | Household Furnishings and Supplies | 2,952.82
3 | HHOPER | PEG | Household operations | 664.63
4 | HHPERSRV |  | Personal services | 319.42
5 | 340210 |  | Babysitting and child care* | 78.76
5 | 340906 |  | Care for elderly, invalids, & handicapped | 24.12
5 | 340910 |  | Adult day care centers | 2.78
5 | 670310 |  | Day-care centers, nursery, & preschools* | 213.76
4 | HHOTHXPN |  | Other household expenses | 345.21
5 | 340310 |  | Housekeeping services* | 74.34
5 | 340410 |  | Gardening, lawn care service* | 82.64
5 | 340420 |  | Water softening service | 5.03
5 | 340520 |  | Laundry & dry clean (nonclothing) | 2.28
5 | 340530 |  | Coin-op laundry & dry clean (nonclothng) | 6.63
5 | 340914 |  | Services for termite/pest control | 14.95
5 | 340915 |  | Home security system service fee | 31.84
5 | 340903 |  | Other home services | 21.34
5 | 330511 |  | Termite/pest control products | 0.52
5 | 340510 |  | Moving, storage, freight express* | 52.63
5 | 340620 |  | Appliance repair, including service center | 21.64
5 | 340630 |  | Reupholstering, furniture repair | 14.75
5 | 340901 |  | Repairs/rentals of lawn & garden equip. | 7.54
5 | 340907 |  | Appliance rental | 6.66
5 | 340908 |  | Rental of office equip. for nonbus. use | 1.06
5 | 340913 |  | Repair of misc. equip. and furnishings | 1.15
5 | 990900 |  | Rental & installation of dishwashers, etc. | 0.20
3 | HKPGSUPP | PEG | Housekeeping supplies | 517.77
4 | LAUNDRY |  | Laundry and cleaning supplies | 111.39
5 | 330110 |  | Soaps and detergents* | 60.63
5 | 330210 |  | Other laundry cleaning products | 50.75
4 | HKPGOTHR |  | Other household products | 293.49
5 | 330310 |  | Toilet tissue, paper towels, napkins, etc.* | 83.22
5 | 330510 |  | Miscellaneous household products | 123.71
5 | 330610 |  | Lawn and garden supplies* | 86.56
4 | POSTAGE |  | Postage and stationery | 112.90
5 | 330410 |  | Stationery, stationery supplies, giftwraps* | 59.15
5 | 340110 |  | Postage | 52.76
6 | STAMP |  | Stamp* | 51.60
6 | PARPST |  | Parcel Post* | 1.16
5 | 340120 |  | Delivery services | 0.98
3 | TEX&RUGS | PEG | Textiles and Area Rugs | 122.91
4 | HHTXTILE |  | Household textiles | 116.04
5 | 280110 |  | Bathroom linens* | 18.65
5 | 280120 |  | Bedroom linens* | 58.59
5 | 280130 |  | Kitchen and dining room linens | 10.38
5 | 280210 |  | Curtains and draperies | 13.44
5 | 280220 |  | Slipcovers, decorative pillows | 3.55
5 | 280230 |  | Sewing mtls. for slipcovers, curtains, etc. | 10.30
5 | 280900 |  | Other linens | 1.14
4 | FLOORCOV |  | Floor coverings | 6.87
5 | RNTCARPT |  | Wall-to-wall carpeting (renter) | 0.60
6 | 230134 |  | Wall-to-wall carpet (renter) | 0.49
6 | 320163 |  | Wall-to-wall carpet (replacemnt) (renter) | 0.11
5 | 320111 |  | Floor coverings, nonpermanent * | 6.27
3 | FURNITUR | PEG | Furniture | 513.48
4 | 290110 |  | Mattress and springs * | 79.17
4 | 290120 |  | Other bedroom furniture | 105.79
4 | 290210 |  | Sofas | 101.92
4 | 290310 |  | Living room chairs * | 59.83
4 | 290320 |  | Living room tables | 19.19
4 | 290410 |  | Kitchen, dining room furniture * | 54.91
4 | 290420 |  | Infants' furniture | 12.70
4 | 290430 |  | Outdoor furniture | 13.68
4 | 290440 |  | Wall units, cabinets & other furniture | 66.29
3 | MAJAPPL | PEG | Major appliances | 178.09
4 | 230116 |  | Dishwashers, garbage disposals, etc. | 15.01
4 | 300110 |  | Refrigerators, freezers * | 47.17
4 | 300210 |  | Washing machines * | 21.05
4 | 300220 |  | Clothes dryers | 14.08
4 | 300310 |  | Cooking stoves, ovens * | 26.21
4 | 300320 |  | Microwave ovens | 7.99
4 | 300330 |  | Portable dishwasher | 0.97
4 | 300410 |  | Window air conditioners | 6.23
4 | 320511 |  | Electric floor cleaning equipment * | 25.51
4 | 320512 |  | Sewing machines | 5.59
4 | 300900 |  | Miscellaneous household appliances | 8.28
3 | SMAPPHWR | PEG | Small appliances, misc. housewares | 102.30
4 | HOUSWARE |  | Housewares | 76.57
5 | 320310 |  | Plastic dinnerware | 2.17
5 | 320320 |  | China and other dinnerware * | 11.30
5 | 320330 |  | Flatware | 3.07
5 | 320340 |  | Glassware | 13.35
5 | 320350 |  | Silver serving pieces | 2.51
5 | 320360 |  | Other serving pieces | 1.21
5 | 320370 |  | Nonelectric cookware * | 21.73
5 | 320380 |  | Tableware, nonelectric kitchenware | 21.24
4 | SMLLAPPL |  | Small appliances | 25.73
5 | 320521 |  | Small electric kitchen appliances * | 19.60
5 | 320522 |  | Portable heating and cooling equipment | 6.13
3 | MISCHHEQ | PEG | Miscellaneous household equipment | 853.64
4 | 320120 |  | Window coverings * | 14.72
4 | 320130 |  | Infants' equipment | 11.50
4 | 320140 |  | Laundry and cleaning equipment | 16.28
4 | 320150 |  | Outdoor equipment * | 21.95
4 | 320210 |  | Clocks | 46.99
4 | 320220 |  | Lamps and lighting fixtures | 17.10
4 | 320231 |  | Other household decorative items | 324.95
4 | 320232 |  | Telephones and accessories * | 41.77
4 | 320410 |  | Lawn and garden equipment * | 77.17
4 | 320420 |  | Power tools * | 43.40
4 | 320901 |  | Office furniture for home use * | 20.40
4 | 320902 |  | Hand tools * | 12.12
4 | 320903 |  | Indoor plants, fresh flowers * | 70.25
4 | 320904 |  | Closet and storage items | 14.56
4 | 340904 |  | Rental of furniture | 4.36
4 | 430130 |  | Luggage | 14.38
4 | 690210 |  | Telephone answering devices | 3.00
4 | 690220 |  | Calculators | 3.22
4 | 690230 |  | Business equipment for home use | 3.32
4 | 320430 |  | Other hardware | 30.67
4 | 690242 |  | Smoke alarms | 1.05
4 | 690245 |  | Other household appliances | 15.17
4 | 320905 |  | Miscellaneous household equip. & parts | 45.30
2 | APPAREL | MEG | Apparel and services | 1,949.90
3 | MENBOYS | PEG | Men and boys | 364.49
4 | MENS |  | Men, 16 and over | 281.87
5 | 360110 |  | Men's suits * | 21.47
5 | 360120 |  | Men's sportcoats, tailored jackets | 7.89
5 | 360210 |  | Men's coats and jackets * | 33.75
5 | 360311 |  | Men's underwear * | 15.47
5 | 360312 |  | Men's hosiery | 10.08
5 | 360320 |  | Men's nightwear | 2.93
5 | 360330 |  | Men's accessories | 20.30
5 | 360340 |  | Men's sweaters and vests | 11.48
5 | 360350 |  | Men's active sportswear | 15.40
5 | 360410 |  | Men's shirts * | 71.11
5 | 360511 |  | Men's pants * | 52.02
5 | 360512 |  | Men's shorts, shorts sets | 13.35
5 | 360901 |  | Men's uniforms | 4.37
5 | 360902 |  | Men's costumes | 2.25
4 | BOYS |  | Boys, 2 to 15 | 82.61
5 | 370110 |  | Boys' coats and jackets | 6.28
5 | 370120 |  | Boys' sweaters | 2.63
5 | 370130 |  | Boys' shirts* | 19.64
5 | 370211 |  | Boys' underwear | 5.59
5 | 370212 |  | Boys' nightwear | 2.42
5 | 370213 |  | Boys' hosiery | 3.81
5 | 370220 |  | Boys' accessories | 2.56
5 | 370311 |  | Boys' suits, sportcoats, vests | 2.62
5 | 370312 |  | Boys' pants * | 20.90
5 | 370313 |  | Boys' shorts, shorts sets | 7.86
5 | 370903 |  | Boys' uniforms | 2.97
5 | 370904 |  | Boys' active sportswear | 3.24
5 | 370902 |  | Boys' costumes | 2.08
3 | WMNSGRLS | PEG | Women and girls | 812.23
4 | WOMENS |  | Women, 16 and over | 699.16
5 | 380110 |  | Women's coats and jackets * | 51.84
5 | 380210 |  | Women's dresses * | 82.20
5 | 380311 |  | Women's sportcoats, tailored jackets | 6.09
5 | 380312 |  | Women's vests and sweaters * | 54.09
5 | 380313 |  | Women's shirts, tops, blouses * | 126.65
5 | 380320 |  | Women's skirts | 17.14
5 | 380331 |  | Women's pants * | 102.08
5 | 380332 |  | Women's shorts, shorts sets | 29.78
5 | 380340 |  | Women's active sportswear | 32.51
5 | 380410 |  | Women's sleepwear | 34.86
5 | 380420 |  | Women's undergarments | 40.91
5 | 380430 |  | Women's hosiery | 25.24
5 | 380510 |  | Women's suits | 37.03
5 | 380901 |  | Women's accessories * | 42.19
5 | 380902 |  | Women's uniforms | 10.70
5 | 380903 |  | Women's costumes | 5.84
4 | GIRLS |  | Girls, 2 to 15 | 113.07
5 | 390110 |  | Girls' coats and jackets | 6.39
5 | 390120 |  | Girls' dresses and suits * | 21.31
5 | 390210 |  | Girls' shirts, blouses, sweaters * | 25.04
5 | 390221 |  | Girls' skirts and pants * | 22.27
5 | 390222 |  | Girls' shorts, shorts sets | 7.79
5 | 390230 |  | Girls' active sportswear | 7.38
5 | 390310 |  | Girls' underwear and sleepwear | 7.42
5 | 390321 |  | Girls' hosiery | 3.59
5 | 390322 |  | Girls' accessories | 5.57
5 | 390901 |  | Girls' uniforms | 3.72
5 | 390902 |  | Girls' costumes | 2.60
3 | INFANT | PEG | Children under 2 | 88.68
4 | 410110 |  | Infant coat, jacket, snowsuit | 3.17
4 | 410120 |  | Infant dresses, outerwear | 23.90
4 | 410130 |  | Infant underwear * | 48.52
4 | 410140 |  | Infant nightwear, loungewear * | 4.19
4 | 410901 |  | Infant accessories | 8.90
3 | FOOTWEAR | PEG | Footwear | 340.80
4 | 400110 |  | Men's footwear * | 115.74
4 | 400210 |  | Boys' footwear | 33.69
4 | 400310 |  | Women's footwear * | 160.44
4 | 400220 |  | Girls' footwear | 30.92
3 | OTHAPPRL | PEG | Other apparel products and services | 343.71
4 | 420110 |  | Material for making clothes | 6.82
4 | 420120 |  | Sewing patterns and notions | 11.17
4 | 430110 |  | Watches * | 26.92
4 | 430120 |  | Jewelry * | 136.82
4 | 440110 |  | Shoe repair and other shoe service | 2.28
4 | 440120 |  | Coin-op. apparel laundry & dry clean * | 53.13
4 | 440130 |  | Alteration, repair & tailoring of apparel | 7.48
4 | 440140 |  | Clothing rental | 5.64
4 | 440150 |  | Watch and jewelry repair | 6.28
4 | 440210 |  | Apparel laundry & dry clean not coin-op * | 86.70
4 | 440900 |  | Clothing storage | 0.46
2 | TRANS | MEG | Transportation | 8,245.76
3 | MOTVEHCO | PEG | Motor Vehicle Costs | 4,401.84
4 | VEHPURCH |  | Vehicle purchases (net outlay) | 3,497.61
5 | NEWCARS |  | Cars and trucks, new | 1,900.46
6 | 450110 |  | New cars * | 1,190.89
6 | 450210 |  | New trucks | 709.58
5 | USEDCARS |  | Cars and trucks, used | 1,574.79
6 | 460110 |  | Used cars | 899.09
6 | 460901 |  | Used trucks | 675.70
5 | OTHVEHCL |  | Other vehicles | 22.36
6 | 450220 |  | New motorcycles | 10.69
6 | 460902 |  | Used motorcycles | 11.67
4 | VEHFINCH |  | Vehicle finance charges | 403.33
5 | 510110 |  | Automobile finance charges * | 212.51
5 | 510901 |  | Truck finance charges | 167.71
5 | 510902 |  | Motorcycle and plane finance charges | 1.69
5 | 850300 |  | Other vehicle finance charges | 21.42
4 | LEASVEH |  | Leased vehicles | 315.82
5 | 450310 |  | Car lease payments | 155.21
5 | 450313 |  | Cash downpayment (car lease) | 11.23
5 | 450314 |  | Termination fee (car lease) | 1.96
5 | 450410 |  | Truck lease payments | 134.22
5 | 450413 |  | Cash downpayment (truck lease) | 10.39
5 | 450414 |  | Termination fee (truck lease) | 2.81
4 | VEHXP&LV |  | Other Vehicle Expenses and Licenses | 185.07
5 | 520110 |  | State and local registration * | 104.55
5 | 520310 |  | Driver's license | 7.87
5 | 520410 |  | Vehicle inspection* | 12.05
5 | PARKING |  | Parking fees | 30.22
6 | 520531 |  | Parking fees in home city, exc. residence | 25.57
6 | 520532 |  | Parking fees, out-of-town trips | 4.66
5 | 520541 |  | Tolls | 9.63
5 | 520542 |  | Tolls on out-of-town trips | 4.13
5 | 520550 |  | Towing charges | 6.19
5 | 620113 |  | Automobile service clubs | 10.42
3 | GASOIL | PEG | Gasoline and motor oil | 1,314.01
4 | 470111 |  | Gasoline* | 1,191.85
4 | 470112 |  | Diesel fuel | 13.42
4 | 470113 |  | Gasoline on out-of-town trips | 95.76
4 | 470211 |  | Motor oil | 12.01
4 | 470212 |  | Motor oil on out-of-town trips | 0.97
3 | CARP&R | PEG | Maintenance and repairs | 878.76
4 | CARPAR |  | Maintenance and Repair Parts | 228.80
5 | 470220 |  | Coolant, additives, brake, trans. fluids | 6.11
5 | 480110 |  | Tires—purchased, replaced, installed* | 127.40
5 | 480213 |  | Parts, equipment, and accessories* | 84.17
5 | 480214 |  | Vehicle audio equipment, excluding labor | 2.65
5 | 480212 |  | Vehicle products | 8.47
4 | CARREP |  | Maintenance and Repair Service* | 649.97
5 | 490000 |  | Misc. auto repair, servicing | 45.18
5 | 490110 |  | Body work and painting | 30.46
5 | 490211 |  | Clutch, transmission repair | 62.11
5 | 490212 |  | Drive shaft and rear-end repair | 5.66
5 | 490221 |  | Brake work, including adjustments | 70.91
5 | 490231 |  | Repair to steering or front-end | 24.55
5 | 490232 |  | Repair to engine cooling system | 26.42
5 | 490311 |  | Motor tune-up | 55.13
5 | 490312 |  | Lube, oil change, and oil filters | 82.42
5 | 490313 |  | Front-end alignment, wheel balance, etc. | 13.27
5 | 490314 |  | Shock absorber replacement | 4.91
5 | 490316 |  | Gas tank repair, replacement | 7.03
5 | 490318 |  | Repair tires and other repair work | 39.11
5 | 490319 |  | Vehicle air conditioning repair | 25.24
5 | 490411 |  | Exhaust system repair | 18.69
5 | 490412 |  | Electrical system repair | 44.53
5 | 490413 |  | Motor repair, replacement | 87.68
5 | 490900 |  | Auto repair service policy | 6.67
3 | 500110 | PEG | Vehicle insurance* | 839.60
3 | CARNTL | PEG | Rented vehicles | 44.75
3 | PUBTRANS | PEG | Public transportation | 766.79
4 | 530110 |  | Airline fares* | 450.04
4 | 530901 |  | Ship fares | 104.86
4 | 530210 |  | Intercity bus fares | 27.89
4 | 530510 |  | Intercity train fares | 38.04
4 | LOCTRANS |  | Local Transportation | 145.96
5 | 530902 |  | School bus | 2.90
5 | 530311 |  | Intracity mass transit fares | 83.27
5 | 530312 |  | Local trans. on out-of-town trips | 17.89
5 | 530411 |  | Taxi fares and limousine service on trips | 10.50
5 | 530412 |  | Taxi fares and limousine service* | 31.40
2 | MEDICAL | MEG | Medical | 2,161.20
3 | HEALTINS | PEG | Health insurance* | 1,015.06
3 | MEDSERVS | PEG | Medical services | 698.31
4 | 560110 |  | Physician's services* | 166.71
4 | 560210 |  | Dental services* | 295.45
4 | 560310 |  | Eyecare services | 44.63
4 | 560400 |  | Service by other than physician | 45.77
4 | 560330 |  | Lab tests, x-rays | 21.17
4 | 570110 |  | Hospital room* | 36.78
4 | 570210 |  | Hospital service other than room | 42.44
4 | 570220 |  | Care in convalescent or nursing home | 34.69
4 | 570230 |  | Other medical care services | 10.68
3 | DRGS&MED | PEG | Drugs and medical Supplies | 447.83
4 | DRUGS |  | Drugs | 327.32
5 | 550210 |  | Nonprescription drugs* | 59.18
5 | 550410 |  | Nonprescription vitamins | 44.63
5 | 540000 |  | Prescription drugs* | 223.50
4 | MEDSUPPL |  | Medical supplies | 120.51
5 | 550110 |  | Eyeglasses and contact lenses* | 74.50
5 | 550340 |  | Hearing aids | 10.23
5 | 550310 |  | Topicals and dressings* | 26.72
5 | 550320 |  | Medical equipment for general use | 2.28
5 | 550330 |  | Supportive & convalescent medical equip. | 3.57
5 | 570901 |  | Rental of medical equipment | 1.31
5 | 570903 |  | Rental of supportive, convalescent equip. | 1.89
2 | RECREATN | MEG | Recreation | 3,032.20
3 | FEESADM | PEG | Fees and admissions | 708.94
4 | 610900 |  | Recreation expenses, out-of-town trips | 37.92
4 | 620111 |  | Social, recreation, civic club membership* | 113.43
4 | 620121 |  | Fees for participant sports* | 107.29
4 | 620122 |  | Participant sports, out-of-town trips | 45.09
4 | 620211 |  | Movie, theater, opera, ballet* | 139.56
4 | 620212 |  | Movie, other admissions, out-of-town trips | 67.91
4 | 620221 |  | Admission to sporting events | 47.02
4 | 620222 |  | Admission to sports events, out-of-town | 22.63
4 | 620310 |  | Fees for recreational lessons* | 90.17
4 | 620903 |  | Other entertainment services, out-of-town | 37.92
3 | TVAUDIO | PEG | Television, radios, sound equipment | 375.46
4 | TELEVSN |  | Televisions | 163.24
5 | 310110 |  | Black and white TV | 1.22
5 | 310120 |  | Color TV—console | 36.90
5 | 310130 |  | Color TV—portable, table model* | 42.90
5 | 310210 |  | VCR's and video disc players* | 28.60
5 | 310220 |  | Video cassettes, tapes, and discs | 27.98
5 | 310230 |  | Video game hardware and software | 22.29
5 | 340610 |  | Repair of TV, radio, & sound equipment | 3.20
5 | 340902 |  | Rental of televisions | 0.15
4 | AUDIO |  | Radios, sound equipment | 212.22
5 | 310311 |  | Radios | 18.25
5 | 310313 |  | Tape recorders and players | 3.73
5 | 310320 |  | Sound components and systems* | 29.63
5 | 310331 |  | Miscellaneous sound equipment | 0.40
5 | 310332 |  | Sound equipment accessories | 5.53
5 | 310334 |  | Satellite dishes | 4.12
5 | 310341 |  | Compact disc & tape mail order clubs* | 12.40
5 | 310342 |  | Records, CDs, audio tapes, needles | 51.07
5 | 340905 |  | Rental of VCR, radio, & sound equip. | 0.78
5 | 610130 |  | Musical instruments and accessories | 33.27
5 | 620904 |  | Rental and repair of musical instruments | 1.70
5 | 620912 |  | Rental of video cassettes, tapes, discs* | 51.34
3 | PETSPLAY | PEG | Pets, toys, and playground equipment | 560.22
4 | PETS |  | Pets | 359.15
5 | 610310 |  | Pet food* | 155.98
5 | 610320 |  | Pet purchase, supplies, medicine | 61.37
5 | 620410 |  | Pet services | 29.65
5 | 620420 |  | Vet services* | 112.15
4 | 610110 |  | Toys, games, hobbies, and tricycles* | 197.38
4 | 610120 |  | Playground equipment | 3.70
3 | ENTEROTH | PEG | Other entertainment supplies, equipment, and services | 472.20
4 | UNMTRBOT |  | Unmotored recreational vehicles | 52.15
5 | 600121 |  | Boat without motor and boat trailers | 15.59
5 | 600122 |  | Trailer and other attachable campers | 36.56
4 | PWRSPVEH |  | Motorized recreational vehicles* | 85.80
5 | 600141 |  | Purchase of motorized camper | 29.86
5 | 600142 |  | Purchase of other vehicle | 25.07
5 | 600132 |  | Purchase of boat with motor | 30.88
4 | RNTSPVEH |  | Rental of recreational vehicles | 3.59
5 | 520904 |  | Rental noncamper trailer | 0.30
5 | 520907 |  | Boat and trailer rental out-of-town trips | 1.01
5 | 620909 |  | Rental of campers on out-of-town trips | 1.58
5 | 620919 |  | Rental of other vehicles on out-of-town trips | 0.68
5 | 620922 |  | Rental of other RV's | 0.01
4 | 600110 |  | Outboard motors* | 5.32
4 | 520901 |  | Docking and landing fees | 9.53
4 | RECEQUIP |  | Sports, recreation and exercise equipment | 193.09
5 | 600210 |  | Athletic gear, game tables, and equip.* | 78.85
5 | 600310 |  | Bicycles* | 11.98
5 | 600410 |  | Camping equipment | 16.00
5 | 600420 |  | Hunting and fishing equipment | 50.58
5 | 600430 |  | Winter sports equipment | 4.54
5 | 600901 |  | Water sports equipment | 10.82
5 | 600902 |  | Other sports equipment | 18.12
5 | 620908 |  | Rental and repair of misc. sports equip. | 2.20
4 | PHOTOEQ |  | Photographic equip., supplies and services | 105.39
5 | 610210 |  | Film* | 23.42
5 | 610220 |  | Other photographic supplies | 1.15
5 | 620330 |  | Film processing* | 35.03
5 | 620905 |  | Repair & rental of photographic equip. | 0.33
5 | 610230 |  | Photographic equipment | 23.27
5 | 620320 |  | Photographer fees | 22.19
4 | 610901 |  | Fireworks | 2.56
4 | 610902 |  | Souvenirs | 1.70
4 | 610903 |  | Visual goods | 2.90
4 | 620913 |  | Pinball, electronic video games | 10.18
3 | PERSPROD | PEG | Personal care products | 336.66
4 | 640110 |  | Hair care products* | 73.16
4 | 640120 |  | Nonelectric articles for the hair | 6.72
4 | 640130 |  | Wigs and hairpieces | 1.36
4 | 640210 |  | Oral hygiene products, articles | 35.09
4 | 640220 |  | Shaving needs | 18.84
4 | 640310 |  | Cosmetics, perfume, bath preparation* | 155.44
4 | 640410 |  | Deodorants, hygiene, misc. personal care | 34.75
4 | 640420 |  | Electric personal care appliances | 11.31
3 | PERSSERV | PEG | Personal care services | 342.23
4 | 650310 |  | Personal care service* | 342.23
3 | READING | PEG | Reading | 236.49
4 | 590110 |  | Newspapers | 91.52
5 | 590111 |  | Newspaper subscriptions* | 69.14
5 | 590112 |  | Newspaper, non-subscriptions* | 22.38
4 | 590210 |  | Magazines | 50.39
5 | 590211 |  | Magazine subscriptions* | 33.86
5 | 590212 |  | Magazines, non-subscriptions* | 16.52
4 | 590220 |  | Books thru book clubs | 14.49
4 | 590230 |  | Books not thru book clubs* | 79.69
4 | 660310 |  | Encyclopedia and other reference books | 0.40
2 | EDU&COMM | MEG | Education and Communication | 1,991.01
3 | EDUCATN | PEG | Education | 100.84
4 | 670210 |  | Elementary and high school tuition* | 85.25
4 | 660210 |  | School books, supplies, equipment | 15.59
3 | COMMICAT | PEG | Communications | 1,579.20
4 | PHONE |  | Telephone services | 1,101.68
5 | 270101 |  | Telephone services, exc. cell phones* | 941.68
5 | 270102 |  | Telephone services for cell phones* | 160.01
4 | 690114 |  | Computer information services* | 114.65
4 | 270310 |  | Community antenna or cable TV* | 362.87
3 | COMP&SVC | PEG | Computers and Computer Services | 310.97
4 | 690113 |  | Repair of computers for nonbusiness use | 3.85
4 | 690111 |  | Computers & hardware nonbusiness use* | 279.53
4 | 690112 |  | Software & accessories for nonbus. use | 27.59
2 | MISCMEG | MEG | Miscellaneous | 6,716.22
3 | TOBACCO | PEG | Tobacco products and smoking supplies | 236.00
4 | 630110 |  | Cigarettes* | 218.42
4 | 630210 |  | Other tobacco products | 15.83
4 | 630220 |  | Smoking accessories | 1.76
3 | MISC | PEG | Miscellaneous | 1,015.55
4 | 620911 |  | Miscellaneous fees, pari-mutuel losses | 57.67
4 | 680110 |  | Legal fees* | 124.11
4 | 680140 |  | Funeral expenses* | 53.22
4 | 680210 |  | Safe deposit box rental | 5.19
4 | 680220 |  | Checking accounts & bank service charges | 27.73
4 | 680901 |  | Cemetery lots, vaults, maintenance fees | 18.12
4 | 680902 |  | Accounting fees* | 74.37
4 | 680903 |  | Miscellaneous personal services | 56.04
4 | 710110 |  | Credit card interest and annual fees* | 375.49
4 | 900001 |  | Occupational expenses | 133.33
4 | 790600 |  | Expenses for other properties | 87.52
4 | 880210 |  | Interest paid, home equity line of credit | 2.75
3 | INSPENSN | PEG | Personal insurance and pensions | 5,464.66
4 | LIFEINSR |  | Life and other personal insurance* | 660.18
4 | PENSIONS |  | Pensions and Social Security* | 4,804.48

Appendix 3 COLA Survey Items and Descriptions

Adhesive bandages. 1 box of 30 adhesive bandages. Assorted sizes. Clear or flexible ok to use. (Note: in Virginia, add tax to this item.) Use: Band Aid brand, Nexcare.

Airfare—Los Angeles. Lowest cost round trip ticket to Los Angeles, CA, 3-week advance reservation, departing and returning midweek, including Saturday night stay. Price nonrefundable ticket. Disregard restrictions, super-saver fares, and special promotions. (In reference area, price all flights from BWI, Reagan/National, and Dulles. Price all flights via Internet on same day.) Use: Round Trip.

Airfare—Miami. Lowest cost round trip ticket to Miami, FL, 3-week advance reservation, departing and returning midweek, including Saturday night stay. Price nonrefundable ticket. Disregard restrictions, super-saver fares, and special promotions. (In reference area, price all flights from BWI, Reagan/National, Dulles. Price all flights via Internet on same day.) Use: Round Trip.

Airfare—Seattle. Lowest cost round trip ticket to Seattle, WA, 3-week advance reservation, departing and returning midweek. (Including Saturday night stay). Price nonrefundable ticket. Disregard restrictions, super-saver fares, and special promotions. (In reference area, price all flights from BWI, Reagan/National, Dulles. Price all flights via Internet on same day.) Use: Round Trip.

Airfare—St. Louis. Lowest cost round trip ticket to St. Louis, MO, 3-week advance reservation, departing and returning midweek. (Including Saturday night stay). Price nonrefundable ticket. Disregard restrictions, super-saver fares, and special promotions. (In reference area, price all flights from BWI, Dulles, and Reagan/National Airport. Price all flights via Internet on same day.) Use: Round Trip.

Alternator (Ford). Price of a 95 Amp alternator for a 1996 Ford Explorer 4.0L Fuel Injected V6 with A/C and AT to the consumer at a dealership. Use: Alternator (Ford).

Alternator (Honda). Price of an alternator for a 1996 Honda Civic DX, 4 Door 1.7L, 4 cylinder, with A/C and AT to the consumer at a dealership. Use: Honda, Mitsubishi.

Alternator (Toyota). Price of an 80 Amp alternator for a 1996 Toyota Camry LE, 4 Door, 2.4L, 4 cylinder, with A/C and AT to the consumer at a dealership. Use: Alternator (Toyota).

Antacid. One large size bottle of extra or ultra strength tablets. Count varies from 72 to 96 tablets. Use: Tums EX 96 tablets, Tums Ultra 72 tablets.

Antibacterial ointment. 1 ounce tube of antibacterial ointment. (Note: in Virginia, do not add tax to this item.) Use: Neosporin.

Apples. Price per pound, loose (not bagged). If only bagged available, report bag weight. Note quality. Use: Red Delicious, Golden Delicious.

Area Rug (Catalog). Approximately 8′ X 11′ braided rug, flat woven, 3-ply yarn. Wool/nylon/rayon. Multi-colored accents. Include shipping and handling. Use: Area rug (A751-0449 C).

Area Rug (Furn Store). Approximately 8′ X 11′ braided rug, flat woven, 3-ply yarn. Wool/nylon/rayon. Multi-colored accents. Use: Area Rug.

Aspirin. 50 count bottle. If no Bayer, report Bufferin or Excedrin as a substitute. Use: Bayer.

Auto Finance Rate. Interest rate for a 4-year loan on a new car with a down payment of 20 percent. Assume the loan applicant is a current bank customer who will make payments by cash/check and not by automatic deduction from the account. Use: Interest Percentage Rate (times 100).

Auto Inspection. Annual cost of auto safety and emissions inspection required by local government. If not required annually prorate to annual. Assume 4-year trade cycle. Use: Auto Inspection.

Baby Food. 4 oz jar strained vegetables or fruit. Use: Gerber Seconds Baby Food, Heinz Baby Food.

Babysitter. Minimum hourly wage appropriate to area. Use: Babysitting.

Baking Dish. 8 inch square glass, clear or tinted. Exclude baking dish with cover or lid. Use: Pyrex, Anchor Hocking.

Bananas. Price per pound If sold by bunch, report price and weight of average sized bunch. Note quality. Use: Available Brand.

Basic Funeral Services. Basic services of Funeral Director and staff, including overhead. Price covers conducting the arrangements conference; planning the funeral; consulting with family and clergy; shelter of remains; preparing and filing of necessary notices; obtaining necessary authorizations and permits; coordinating with the cemetery, crematory or other third parties; proportionate share of basic overhead costs. Note any other services that are included in price. Use: Basic Funeral Services.

Bath Towel. 54½″×30″ wide (aprox.) 100% cotton, medium weight. Side hem is woven selvage. Bottom hem may be folded. Use: Martha Stewart Everyday #246943286, Store brand.

Beer at Home (bottles). 6 pack of bottled beer, 12 oz size. Use: Budweiser.

Beer at Home (cans). Six-pack of 12 oz cans of Budweiser. Do not price refrigerated beer unless that is the only type available. In Puerto Rico, price 10 oz cans and report as substitutes. Use: Budweiser.

Beer Away—(CH type). One glass of Budweiser/Miller Lite beer. Price only at Chart House type restaurants where dinner is priced. Use: Budweiser, Miller Lite.

Beer Away—(RC type). One glass of Budweiser/Miller lite beer. Price only at Ruth's Chris type restaurants where dinner is priced. Use: Budweiser, Miller Lite.

Beer Away—Casual. One glass of Budweiser/Miller Lite beer. Price only at casual restaurants where dinner is priced. Use: Budweiser, Miller Lite.

Bicycle 20″. 1-speed boy's bike with kickstand. Solid frame and front forks (i.e., no shock absorbers). Coaster brake in rear. Caliper brake in front. Use: Huffy Turbo Blast, Quasar, Mongoose.

Board Game. Standard edition, Not deluxe. Use: Sorry, Scrabble, Life.

Book. Store price (not publisher's list price unless that is the store price) for top selling paperback book. Also price via Amazon.com. Use: Kentucky Rich (Michaels), On the Street Where you Live (Clark), Dust To Dust (Hoag).

Bottled water. One gallon (128 fl oz) spring water. Do not price sparkling or distilled water. Record brand in comments. Use: Store brand, Local brand.

Bowling. One game of open (or non-league) 10-pin bowling on Saturday night. Exclude shoe rental. If priced by the hour, report hourly rate divided by estimated number of games per hour and note hourly rate in comments. Do not price duck-pin bowling. Use: Bowling.

Boy's Jeans. Regular fit, size range 9-14, inexpensive jeans. Not bleached, stone-washed or designer jeans. Use: Rustler, Wrangler.

Boy's Polo Shirt. Knit polo-type shirt with collar, solid color, size range 7-14. Prefer no embroidered emblem. Not Izod or Polo brand. Use: Local brand.

Boy's Polo Shirt (Name brand). Name brand, knit polo shirt with collar, solid color, preferably without embroidered emblem. Size 7-14. Use: Polo, Calvin Klein.

Boy's T-Shirt. Screen-printed t-shirt for boys ages 8 thru 10 (size 7-14). Pullover with crew neck, short sleeves and polyester/cotton blend. Do not price team logo shirts. Use: Store brand.

Bread, White. 22-24 oz loaf, sliced. Not store brand. Use: Wonder, Sunbeam, Holsum.

Breakfast full-service. 2 strips of bacon or 2 sausages, 2 eggs, toast, coffee, and juice. Check sales tax and INCLUDE in price. Use: Bacon and Eggs.

Breakfast, Fast Food (Bagel). Ham, Egg and Cheese Bagel, hash brown and coffee. Use value meal, medium size. Check sales tax and INCLUDE in price. Use: Ham, Egg & Cheese Bagel value meal.

Breakfast, Fast Food (Egg McMuffin). Egg McMuffin, hash brown and coffee. Use value meal, medium size. Check sales tax and INCLUDE in price. Use: Egg McMuffin value meal.

Cable TV, Basic Service. One month lowest level service. Report number of channels. If 12 or less, price next service level unless it includes premium (e.g., movie) channels. Do not report hook-up charges. Use: 1 month of cable TV.

Cable TV, Level 1 Service. One month of the next level of service above lowest level. If premium (e.g., movie) channels included, please note in remarks (e.g., HBO1, Disney, Home Team Sports). Use: Level I Cable.

Camera Film. Single roll, 35 millimeter, 24 exposure, 100 ASA (speed). If only multi-roll packs available, note number of rolls and ASA of each in comments. Use: Kodak Gold, Fuji.

Candy Bar. One regular size, weight approx. 1.55 oz to 2.13 oz. Not king-size or multi-pack. Use: Snickers, Hershey's.

Canned Chopped Ham. 12 oz can of processed luncheon meat. Do not price turkey, light or smoked. Use: SPAM.

Canned Green Beans. 14-15 oz can of plain cut green beans. Do not price French cut style, Italian style, canned vegetable mixtures, or similar specialty variations. Use: Del Monte, Green Giant.

Canned Ham—2 pound. 2 pound canned ham. Use: DAK, Hormel Black Label.

Canned Ham—3 pound. 3 pound canned ham. Use: DAK, Hormel Black Label, Dubuque.

Canned Peaches. 15-16 oz can of sliced peaches. Do not price lite or juice pack. Use: Libby's, Del Monte.

Canned Soup. Regular size (approx 10 oz). Not hearty, reduced fat or salt free varieties. Use: Campbell's Vegetable Soup, Campbell's Chicken Noodle Soup.

Canned Tuna. Chunk light, packed in water (6.0 oz to 6.13 oz). Do not price fancy style or albacore. Use: Star Kist, Bumble Bee.

Cellular Phone Middle Plan. Middle level monthly cellular phone service with a minimum of 500 anytime minutes and 3000 weekend and evening minutes per month. Use: Cingular, Sprint.

Cellular Telephone Service. Basic monthly cellular phone service with a minimum of 250 anytime minutes and 1000 weekend and evening minutes per month. Use basic minimum offers from carriers that have similar monthly phone plans. Use: Monthly Service.

Cereal. 18 to 20 oz box of raisin bran cereal. Use: Post Raisin Bran, Kellogg's Raisin Bran.

Charcoal grill. Charcoal grill, heavy gauge, porcelain enameled, steel lid, approx. 22.5″ in diameter. Use: Weber1touchsilver (741001).

Cheese. 10 oz package cheese. Price mild cheddar if available. Use: Kraft Cracker Barrel.

Chicken breast. Price per pound of USDA grade boneless, skinless chicken breasts. Price store brand if available, otherwise record brand. Note: Most “fresh” (i.e., not frozen) chicken is “chilled” to almost freezing. Do not price frozen chicken. Use: Boneless, skinless breast.

Chicken, Whole. Price per pound of USDA graded, whole fryer chicken. Price store brand if available, otherwise record brand. Note: Most “fresh” (i.e., not frozen) chicken is “chilled” to almost freezing. Do not price frozen chicken. Use: Whole fryer.

Cigarettes. One pack filter kings soft pack. Not generic. Use: Winston, Marlboro.

Clean and Check Up. Current patient charge for routine exam, including 2-bite wing x-rays and cleaning of teeth (light scaling and polishing). No special treatment of gums or teeth. Not initial visit. Not specialist or oral surgeon. Price for an adult. Use: Dentist check-up.

Coffee, Ground. 13 oz can. Do not price decaffeinated or special roasts. Use: Folger's, Maxwell House.

Compact Disc (Discount Store). Current best-selling CD. Do not price double CD's. Use: Spiderman Soundtrack, C'mon, C'mon (Sheryl Crow).

Compact Disc (Music Store). Current best-selling CD. Do not price double CD's. Use: Spiderman Soundtrack, C'mon, C'mon (Sheryl Crow).

Compact Disc Player. 5 disc rotary changer, 32-track programming, 10 key access, 8 times over sampling, and remote. IMPORTANT: Specific model numbers may vary by dealer. Use: Sony CDPCE275, JVC XLFZ158, RCA RP8075.

Computer. Laptop computer with 14 inch screen, Intel® Pentium® III 1.2 GHZ processor, 20 GB hard drive, 128MB memory, and DVD-CDRW ROM, 56K modem, Windows XP Home operating system. Use: HP Pavilion ZT1135 Notebook PC, Compaq 1700 series, Gateway 500Seb.

Contact Lenses. One box of disposable contact lenses, 3 pairs in the box, a pair lasts two weeks. Price of 1 box only. Use: Sequence, Medalists, Acuvue.

Cookies. 18—20 oz package. Use: Keebler Chips Deluxe, Nabisco Chips Ahoy.

Cooking oil. 48 FL oz plastic bottle. Not blends, corn oil, olive oil, or canola oil. Use: Crisco, Wesson Oil.

Cordless phone. Cordless phone with approx. 30 channels and caller id. 900 MHz to 2.4 GHz. Use: Panasonic (KXTGA100N), Uniden (TRU246), Vtech (VT2421).

Credit Card. Interest and Annual Fee Sum of charge card interest rate applied to the national average balance ($8,562) plus any annual fees charged by the bank. Do not use Gold or Platinum cards. Use: Total Cost.

Cremation Services. Direct cremation. Includes removal of remains, local transportation to crematory, necessary body care and minimal services of the staff. Include crematory fee and obtain minimum container fee. Use: Cremation Services.

Day Care. One month of day care for a 3 year old child, 5 days a week, about 10 hours per day. If monthly rate is not available, 1) obtain weekly rate, and record in the comments section 2) multiply weekly rate by 4.33 to obtain monthly rate. Price at day care center (in a Federal building is ok, but not on a military base). Try private first, then at a Federal center next. If subsidized, ask details. Use: DAY CARE.

Dental Crown. Cost of composite on lower molar without restoration. Price for an adult. Use: Dental crown.

Dental filling. Lower molar, two surfaces amalgam filling. Price for an adult. Use: Dental filling.

Dining table set (Catalog). Contemporary style, rectangular table, solid hardwood, no leaf, four legs. Imported. 48×30″. Two side chairs: 18×22×37″, and two end chairs with arms: 23½×20¾×37″. No or minimum pads on chairs. Include shipping and handling. Use: Manhattan Collection.

Dining table set (Furn Store). Contemporary style, rectangular table, solid hardwood, no leaf, four legs. Imported. 48×30″. Two side chairs: 18×22×37″, and two end chairs with arms: 23½×20¾×37″. No or minimum pads on chairs. Use: Manhattan Collection.

Dinner-Full Service (Chart House type). Large steak dinner (10 to 16 oz), salad, rice or potato, no coffee. Do not include tip. Check sales tax and INCLUDE in price. Use: Large steak dinner.

Dinner-Full Service (Pancake House type). 8-12 oz steak, small side dish (e.g., rice or potato), side salad or salad bar, and coffee. Meal should not include dessert. If 8-12 oz unavailable, price closest size and note in comments. Check sales tax and INCLUDE in price. Do not include tip. Use: Steak Dinner.

Dinner-Full Service (Ruth's Chris type). 8-10 oz petite filet, salad, potato, no coffee. Check sales tax and INCLUDE in price. Do not include tip. Use: Petite filet dinner.

Dinner-Full Service (Casual). 8-12 oz steak, small side dish (e.g., rice or potato), side salad or salad bar, and coffee. Meal should not include dessert. If 8-12 oz unavailable, price closest size and note in comments. Check sales tax and INCLUDE in price. Do not include tip. Use: Steak Dinner.

Dish Set. Corelle Abundance pattern tableware 20-piece set. Includes: 4 dinner plates, 4 luncheon plates, 4 bowls, 4 cups, and 4 saucers. Pattern is beige with a fruit and flower motif. Use: Corelle Impressions, New Corelle.

Disposable diapers. 34 count package, Stage 2 (child 12-18 pounds). Not jumbo, overnight or larger size diapers. Use: Pampers, Huggies.

Doctor Office Visit. Typical fee when medical advice or simple treatment is needed. Not initial visit. Exclude regular physical examination, injections, medications, or lab tests. Use general practitioner not pediatrician or other specialist. Use: Doctor visit.

Drill, Cord. ½″ reversible, variable speed, key-type chuck, 5.5 amp electric drill with cord. Use: Black & Decker DR500.

Drill, Cordless. Variable speed, reversible, key-less chuck, 9.6 volt, electric drill with fast recharge. Use: Makita Model 6095DWBE, DeWalt DW926K-2.

Dry clean Man's Suit. 2-piece man's suit of typical fabric. Do not price for silk, suede or other unusual materials. Use: Dry cleaning.

DVD player. 5 disc DVD/CD player with remote, with on-screen menus. Jacks are located in the back. Use: Panasonic (DVD-CV52K).

Education, K-12 Private. Cost of tuition. Note if books & uniforms are included. If price varies by grade, record in comments price for each grade. Note any annual, recurring fees, i.e., registration, computer, activity, etc. Avoid pricing at church-affiliated schools if possible. If not possible, note any rate differences for church members versus others. Use: Ed, K-12 Private.

Eggs (brown, large) One dozen large, brown eggs. Record brand in comments. Use: Store brand, Local brand.

Eggs (white, large). One dozen large eggs. Not brown eggs. Record brand in comments. Use: Local Brand, Store Brand.

Eggs (white, medium). One dozen medium, white eggs. Do not price brown eggs. Record brand in comments. Use: Store brand, Local brand.

Electric Bill. Price per KWH, plus any additional monthly charges. Obtain local electrical utility bill, as possible. Use: utility worksheet.

Electric Broom. Electric broom style vacuum cleaner w/ approx. 2-6 amps, 120 volts. Electric bagless broom, dirt cup. Use: HooverTempoStikVacORQuikBroomSuprem, Bissel Easy Vac Plus 5 amp 3102-D, Eureka Boss Lite.

Embalming. Price for embalming non-autopsied remains. Use: Embalming.

Fast food Dinner Burger. Hamburger meal consisting of a Big Mac, Medium fries and medium soft drink. Check sales tax and INCLUDE in price. Use: Big Mac Value Meal.

Fast food Dinner Pizza. Medium cheese pizza with salad and small soft drink. Check sales tax and INCLUDE in price. Use: Medium Cheese Pizza.

Fast food Lunch Burger. Hamburger meal consisting of a Big Mac, Medium fries and medium soft drink. Check sales tax and INCLUDE in price. Use: Big Mac Value Meal.

Fast food Lunch Pizza. Personal size cheese pizza or 1 slice of cheese pizza, and a small soft drink. Do NOT include salad. Check sales tax and INCLUDE in price. Use: Cheese Pizza.

FEGLI (Life Insurance). Federal Life Insurance. Not surveyed. Constant across all areas. Use: OPM.

FEHB Insurance. Self Only and Self and Family. OPM provides data on Federal Health Benefits Insurance premiums. Use: OPM.

FERS/CSRS Contributions. Federal Retirement Contributions. Not surveyed. Assumed to be constant across all areas. Use: FERS/CSRS.

Filing cabinet. 2 drawer metal vertical file cabinet, approx. 24″×14″× 8″ file drawer sides may accommodate hanging files. Use: Hirsh Industries, Space Solutions, or Work.Org brand.

Film processing. 1 hour color film processing, in store. 24 exposure, 35 mm, 3×5 single print. Use: Film processing 1 hour.

Ford Explorer—2WD. Purchase price of a 2002 Ford Explorer XLS, 2 wheel drive, 4 door, 4.0 liter, 6 cylinder, 5-speed automatic overdrive transmission. Please note the price of any special option packages. Use Worksheet. Use: Ford Explorer XLS 2 WD-AT.

Ford Explorer—4WD. Purchase price of a 2002 Ford Explorer XLT, 4x4, 4 door, 4.0 liter, 6 cylinder, 5-speed automatic overdrive transmission. Please note the price of any special option packages. Use Worksheet. Use: Ford Explorer XLT.

Ford License, Reg, & Taxes (2WD). Annual license, registration and personal property taxes for a Ford Explorer, 2 wheel drive Use: Ford 2WD License, Reg & Taxes.

Ford License, Reg, & Taxes (4WD). License, registration, and periodic taxes (e.g., road or personal property tax, but NOT one-time taxes such as sales tax) on a 2002 Ford Explorer XLT, 4x4, 4 door, 4.0 liter, 6 cylinder, 5-speed automatic overdrive transmission. Use: FORD 4 WD MISC TAXES & REG.

Fresh Mahi-Mahi. Price per pound of fresh mahi-mahi fillet. Do not price previously frozen (PF) or specially prepared varieties. Do not price family-pack, value-pack, super-save pack, or equivalent. Use: Mahi-Mahi fillet.

Fresh Red Snapper. Price per pound of fresh Red Snapper. Use: Red Snapper.

Fresh Salmon. Price per pound of fresh salmon fillet. Do not price previously frozen (PF) or specially prepared varieties. Do not price family-pack, value-pack, super-save pack, or equivalent. Use: Salmon fillet.

Fresh Shrimp. Price per pound of fresh tiger shrimp-size 16 to 20 count per pound. Do not price previously frozen (PF) or specially prepared varieties. Do not price family-pack, value-pack, super-save pack, or equivalent. Use: Tiger Shrimp.

Frozen fish fillet. Price of frozen ocean whitefish fillet prepared with a sauce (e.g., lemon-butter, teriyaki, or Cajun sauce). Do not price breaded filets. Use: Gorton's grilled fillets, Mrs. Paul's.

Frozen orange juice. 12 fl oz orange juice concentrate (makes 48 fl oz). Do not price calcium fortified, pulp free, country style, etc. Use: Sunkist, Minute Maid.

Frozen peas. 16 oz package. Do not price peas with sauce or Green Giant Select. Use: Green Giant, Birdseye, Hanover.

Frozen TV Dinner. One 11.5-oz (approximate) frozen dinner with vegetable and/or other condiment. Do not price Hungry Man or equivalent extra-portion sizes. Use: Swanson Turkey Dinner, Swanson Fried Chicken Dinner.

Frozen waffles. 8 to 10 waffles per package. Use: Aunt Jemima, Kellogg's, Eggo.

Fruit Drink. 64 fl oz bottle. Not powdered mixes or individual serving sized drinks. Use: Hi-C, Hawaiian Punch.

Fruit Juice. 48 oz glass or plastic bottle of juice. Do not price frozen or boxed drink or drink in significantly different size bottle. Use: Ocean Spray Cranberry Juice Cocktail, Ocean Spray Cranapple.

Gasoline. Self-Serve Price per gallon for self-service unleaded regular gasoline. Use: Gas for cars.

Gelatin. 3 oz box gelatin dessert. Use: JELL-O, Royal.

General Admission. Adult price for regular length, current-release (currently advertised on television) evening film. Report weekend evening price if different from weekday. Use: Movie.

Girl's dress. Cotton blend short or long-sleeved dress appropriate for school. Exclude extra ornamentation. Size range 7-14 (for ages 8-10). Use: Store brand.

Girl's Dress (Catalog). Girls shantung dress, braided trim, empire waist, back zip, dry clean. Include shipping and handling. Use: Shantung dress.

Girl's jeans. Basic plain jeans for girls ages 8-10 (size 7-14). Store brand, e.g., Arizona for JC Penney. Use: Store brand.

Girl's Jeans (Catalog). Girls 5 pocket, pre-washed jeans, machine washable. Include shipping and handling. Use: 5 pocket jeans.

Girl's jeans (CK type). Designer basic plain jeans for girls ages 8-10 (size 7-14). Use: Calvin Klein Classics.

Girl's Polo type top. Girl's polo cotton blend, not stretchy material (that has lycra), striped or solid pattern. Sizes 7-14. Use: Store brand.

Gold Ball Earrings (Dept Store). One pair 6mm, 14K hollow, gold ball earrings for pierced ears. If not available, but 4, 5, 7 or 8mm are available, record each separately as a substitute. Do not price gold filled. Use: Store Brand.

Gold Ball Earrings (Jewelry Store). One pair 6mm, 14K hollow, gold ball earrings for pierced ears. If not available, but 4, 5, 7 or 8mm are available, record each separately as a substitute. Do not price gold filled. Use: store brand.

Golf. 18 holes of golf on weekend w/cart. No par 3 courses or early-bird/off-hours prices. If only 9 holes available, double price. If only daily rate available (unlimited number of holes), report the Sat/Sun rate. If at resort, price RESIDENT FEE only. Use: golf.

Ham, Cured, not canned. Price per pound a boneless cured ham. Do not price honey glazed. Use: Store Brand.

Hamburger Buns. 8-count package of sliced enriched white hamburger buns. Do not price store brand, lite, whole wheat, or sesame seed buns. Use: Wonder, Sunbeam, Holsum.

Hammer (Graphite Fiber Handle). Smooth head, 16 oz nail hammer, curved or straight claw, with graphite handle. Use: Stanley 51-505.

Hammer (wood handle). 16-oz curved claw, high carbon steel head, black finish, wood handle. Overall length 13 ¼″. This is a typical homeowner's hammer. Do not price hammers with non-wooden handles or those typically used by carpenters or cabinet makers. Use: Stanley 51616, Stanley 51416.

Health club membership. 1 year regular individual membership for EXISTING MEMBER. No special offers. If no yearly rate, price month and prorate. Service must include free weights, cardiovascular equip., and aerobic classes. Note if pool, tennis, racquet ball, or other service included. Use: Health club.

Honda Civic. Purchase price of a 2002 Honda Civic Sedan DX, 4 door, 1.7 liter, 4 cylinder, automatic transmission. Please note the price of any special option packages. Use Worksheet. Use: Honda Civic DX.

Honda License, Reg, & Taxes. License, registration, and periodic taxes (e.g., road or personal property tax, but NOT one-time taxes such as sales tax) on a 2002 Honda Civic Sedan DX, 4 door, 1.7 liter, 4 cylinder, automatic transmission. Use: HONDA MISC TAXES & REGISTRATION.

Hospital Room (Private). Daily charge for a PRIVATE ROOM ONLY. Include food and routine care. Exclude cost of operating room, surgery, medicine, lab fees, etc. Do not price specialty rooms, e.g., those in cardiac care units. Use: Private Room.

Hospital Room (Semi-Private). Daily charge for a SEMI-PRIVATE ROOM ONLY. Include food and routine care. Exclude cost of operating room, surgery, medicine, lab fees, etc. Do not price specialty rooms, e.g., those in cardiac care units, medicine, lab fees, etc. Use: Semi-Private Room.

Hot Dogs. 16 oz package, all beef, USDA graded. Do not price chicken, turkey, extra lean, or fat free frankfurters. Use: Oscar Mayer.

Housekeeping (hourly wage). Local hourly wage for a housekeeper or janitor. Use: Local Government wage data.

Housekeeping Service (Hourly). Hourly rate for one person to clean a private residence on a periodic basis. If hourly rate not available, price job rate, number of people, and total hours required to clean house twice a month. House has 2000 sq. ft., 3 bedrooms, living room, den, kitchen, 2 full baths. Family has 2 adults, 2 children, no pets. Use: Housekeeping Hourly.

Ice Cream (Name brand). ½ gallon (2 QT) vanilla flavored. Not ice milk, fat free, sugar free, or frozen yogurt. Use: Breyer's.

Ice Cream (Store brand). ½ gallon (2 QT) vanilla flavored. Not ice milk, fat free, sugar free, or frozen yogurt. Record brand in comments. Use: Store Brand, Local brand.

Ice Cream Cone. Regular (one scoop) vanilla ice cream cone. Not frozen yogurt or soft-serve ice cream. Use: Ice Cream Cone.

Ice Cream Cone (gourmet). Regular (one scoop) vanilla ice cream cone. Not frozen yogurt or soft-serve ice cream. Use: Ice Cream Cone.

Infant's Sleeper. One-piece sleeping garment with legs, covering the body including the feet. Can be packaged or hanging. Use: Gerber, Playskool, Sesame Street, Store brand.

Insurance, Ford Min. DC AND VI ONLY. Annual minimum premium for Ford. 35-year old married male, currently insured, no accidents/violations. Commuting 15 miles one-way/day, annual 15,000 mi. BI 25/30 PD 25, Med 5 or PIP 25, UM 25/30. Comp 250 deductible. Col 500 deductible. If this level of coverage is not available, price the policy with the closest coverage. Use: FORD INSURANCE MIN.

Insurance, Ford Reg. DC AND PR ONLY. Annual premium for Ford. 35-year old married male, currently insured, no accidents/violations. Commuting 15 miles one-way/day, annual 15,000 mi. BI 100/300, PD 25, Med 15 or PIP 50, UM 100/300. Comp 100 deductible. Col 250 deductible. If this level of coverage is not available, price the policy with the closest coverage. Use: Ford insurance.

Insurance, Honda Min. DC AND VI ONLY. Annual minimum premium for Honda. 35-year old married male, currently insured, no accidents/violations. Commuting 15 miles one-way/day, annual 15,000 mi. BI 25/30 PD 25, Med 5 or PIP 25, UM 25/30. Comp 250 deductible. Col 500 deductible. If this level of coverage is not available, price the policy with the closest coverage. Use: HONDA INSURANCE MIN.

Insurance, Honda Reg. DC AND PR ONLY. Annual premium for Honda. 35-year old married male, currently insured, no accidents/violations. Commuting 15 miles one-way/day, annual 15,000 mi. BI 100/300, PD 25, Med 15 or PIP 50, UM 100/300. Comp 100 deductible. Col 250 deductible. If this level of coverage is not available, price the policy with the closest coverage. Use: Honda insurance.

Insurance, Toyota Min. DC AND VI ONLY. Annual minimum premium for Toyota. 35-year old married male, currently insured, no accidents/violations. Commuting 15 miles one-way/day, annual 15,000 mi. BI 25/30 PD 25, Med 5 or PIP 25, UM 25/30. Comp 250 deductible. Col 500 deductible. If this level of coverage is not available, price the policy with the closest coverage. Use: Insurance, Toyota Min.

Insurance, Toyota Reg. DC AND PR ONLY. Annual premium for Toyota. 35-year old married male, currently insured, no accidents/violations. Commuting 15 miles one-way/day, annual 15,000 mi. BI 100/300, PD 25, Med 15 or PIP 50, UM 100/300. Comp 100 deductible. Col 250 deductible. If this level of coverage is not available, price the policy with the closest coverage. Use: Toyota Insurance Reg.

Internet Service. Monthly charge for unlimited Internet access via standard telephone modem connection. Use: Local provider, AOL, MSN.

Jelly. 18 oz jar of grape jelly. Use: Welch's.

Jet Ski. 2002 Yamaha jet ski XLT800, 120 hp, 2 cylinder, 3 seater. (If only SeaDo GTX is available, record as a substitute). Use: Yamaha (XLT800).

Ketchup. 24 oz plastic squeeze bottle. Use: Heinz.

Kitchen Range (Electric). 30 inch wide electric range. Features upswept cook top, removable coils elements, electronic clock w/timer, oven light, delay, start cook controls, storage drawer, glass front with see through window, self cleaning oven w/2 oven racks and a porcelain enamel broiler pan. Black door and black panel. Don't use white door. Use: GE Spectra (JBP24BBWH), Maytag Performa (PER5505BAH).

Kitchen Range (Gas). 30″ wide gas, self-cleaning range. Features: upswept cook-top, electronic clock with timer, oven light, large glass front with see-thru window, and a porcelain enamel broiler pan. Color: White-on-white. Use: Whirlpool SF367LEKQ.

Laptop (Compaq). Compaq Presario 720US, 56K, 14.1″ screen, DVD, 64KB, 256MB, (Radio Shack catalog number 25-985). Use: Compaq Presario (720US).

Laptop Computer. Processor: Intel Pentium 4; 2.0 GHz; memory: 512MD DDR SDRAM; storage: 20 GB hard drive; drives: 3.5 floppy diskette drive, 16x/10x/24x CDRW/8x DVD combo; graphics: 14.1″ XGA Monitor. Full sized keyboard and EZ Pad pointing device; operating system: Microsoft® Windows XP; software: Microsoft® Works Suite 2002. Use: Gateway Laptop.

Laundry Soap. 100 fl oz of liquid household laundry detergent. Do not price detergent with bleach or whiteners. Use: Wisk, Tide.

Lawn Care (hourly wage). Local hourly wage for gardener/grounds keeper. Use: Local Government.

Lawn Care Service (hourly). Hourly rate for one person to cut and edge lawn. If hourly rate not available, price job rate, number of people, and total hours required to cut and edge a ¼ acre lawn. Do not include any other services, e.g., fertilizing, raking, watering, weeding. Use: Hour of lawn care service.

Lawn trimmer. Gas powered 31cc two-cycle engine, dual feed line, 16″-17″ wide cut. Straight or curved shaft okay. No brush blade. Bump or semi-automatic line feed. Use: Ryobi 766R or 765R, Weedeater 17″ 25cc trimmer, Homelite UT20811 (17″).

Lawnmower (push). Gas powered 6.5 hp 20″ push (NOT self propelled), mulching lawn mover. Use: Yard Man 106C.

Lawnmower (self-propelled). 21″-22″ self-propelled, 6.5 hp gas lawnmower. Use: Toro/Lawnboy (M20013), Craftsman (37844).

LD Call Chicago. Cost of a 10 min call using regional carrier, recd on a weekday in Chicago at 8:00 p.m. (Chicago time); direct dial. Include any Federal, State, local or excise tax that is applicable. Use: AT&T.

LD Call Los Angeles. Cost of a 10 min call using regional carrier, recd on a weekday in LA at 8:00 p.m. (LA time); direct dial. Include any Federal, State, local or excise tax that is applicable. Use: AT&T.

LD Call New York. Cost of a 10 min call using regional carrier, recd on a weekday in NY at 8:00 p.m. (NY time); direct dial. Include any Federal, State, local or excise tax that is applicable. Use: AT&T.

Lettuce. Price per head of iceberg lettuce. (Note weight of an average head. Note quality.) Use: Available Brand.

Lipstick. One tube. Use: Revlon Super Lustrous, Revlon Moondrops.

Living Room Chair (Catalog). Flexsteel rocker/recliner. Large scale pad-over-chaise, side-handle for reclining. High arms and wide seat. Polypropylene/polyester upholstery. Include shipping and handling. Use: Action Lane.

Living Room Chair (Furniture Store). Flexsteel rocker/recliner. Large scale pad-over-chaise, side-handle for reclining. High arms and wide seat. Polypropylene/polyester upholstery. Use: Living Room Chair.

Lunch full-service (Casual). Cheeseburger platter with fries and small soft drink. Check sales tax and INCLUDE in price. Record burger weight in comments. Use: Cheeseburger Platter.

Lunch full-service (Pancake House type). Cheeseburger platter with fries and small soft drink. Check sales tax and INCLUDE in price. Record burger weight in comments. Use: Cheeseburger Platter.

Lunch Meat. 8 oz pkg. Do not price all beef variety. Use: Oscar Mayer Bologna, Oscar Mayer Cotto Salami.

Magazine subscription. 1-year home delivery price of a magazine. Use: Newsweek, Time.

Magazine, Newsstand-Bookstore. Store price (not publisher's list price unless that is the store price) for a single copy. Use: Time, Newsweek.

Man's athletic shoe (DEPT). Soft leather upper. Full-length Phylon midsole with low-pressure Air-Sole units in heel and forefoot. Composition rubber outsole. Use: Nike Air Essential III, Nike Resolve Plus, Nike Air Jokul, Reebok Classic.

Man's athletic shoe (Shoe Store). Soft leather upper. Full-length Phylon midsole with low-pressure Air-Sole units in heel and forefoot. Composition rubber outsole. Use: Nike Air Essential III, Nike Resolve Plus, Nike Air Jokul, Reebok Classic.

Man's Dress Shirt. White or solid color long sleeve button cuff plain collar dress shirt. Approximately 35%cotton/65%polyester. Use: Arrow, Van Heusen.

Man's Dress Shoe (Leather DEPT). 100% leather uppers, wing tips or plain toe. Leather sole. Use: Bostonian, Steeplegate, Clark, Rockport, Florsheim.

Man's Dress Shoe (Leather SHOE). 100% leather uppers, wing tips or plain toe. Leather sole. Use: Bostonian, Steeplegate, Clark, Rockport, Florsheim.

Man's Dress Shoe (Rubber Sole CTLG). Men's rubber sole dress shoe, wing tip, Rockport Share. Include shipping and handling. Use: Rockport Share.

Man's Dress Shoe (Rubber Sole SHOE). Men's rubber sole dress shoe, wing tip, Rockport Share. Use: Rockport Share.

Man's Dress Shoe (Rubber Sole) DEPT. 100% leather uppers, wing tips or plain toe. Remaining parts are man-made materials. Lightweight with rubber/EVA sole. Do not price leather sole. Use: Bostonian, Rockport.

Man's Haircut. Typical haircut. Do not include wash. Use: Man's Haircut.

Man's Jeans. Regular loose fit non designer jeans. Do not price bleached or stone washed. Use: Rustler, Wrangler.

Man's khaki pants. Man's casual khakis, any color, flat front or pleated. Cotton twill. Use: Dockers flat front, Dockers pleated.

Man's Khaki Pants (Catalog). Man's khaki pants from a catalog. Flat front or pleated, machine wash. Include shipping and handling. Use: Docker's flat front, Docker's pleated.

Man's Lightweight Jacket (Catalog). Lightweight, breathable, cotton jacket. Front pockets, fully lined, long sleeves, made of cotton and nylon, front zipper, elastic waist. (Use regular sizes, not tall). Include shipping and handling. Use: Lightweight Jacket.

Man's Sport Watch (Discount Store). Quartz movement, water resistant, digital watch with 2 or 3 alarms, lap counter, timer, INDIGLO night-light, leather, plastic, and/or fabric band. Use: Timex Expedition T73601, 107350.

Man's Suit-Catalog. Double-breasted worsted wool, ventless back. Black, regular suit. Inside pocket and full acetate lining. Include shipping and handling. Use: Catalog brand.

Man's Suit-Dept Store. Double-breasted worsted wool, ventless back. Black, regular suit. Inside pocket and full acetate lining. Use: Store brand.

Man's Undershirt. 1 package (of 3) Men's t-shirts. V-neck. White 100% cotton undershirts with short sleeves. Use: Hanes, Fruit of the Loom.

Man's watch (Dept Store). Sweep second hand and date window. Has Eco-Drive mechanism, which charges in sunlight or indoors and maintains a 180 day power reserve. Use: Citizen ECO-drive (BM0310-54L), Citizen ECO-drive (BM8080-59M).

Man's watch (Jewelry Store). Sweep second hand and date window. Has Eco-Drive mechanism, which charges in sunlight or indoors and maintains a 180 day power reserve. Use: Citizen ECO-drive (BM0310-54L), Citizen ECO-drive (BM8080-59M).

Man's Wed Band Non-Cmfrt-Jewelry. Men's 14K gold 4mm plain wedding band, size 10 or less, non-comfort fit. Do not price gold-filled rings. Use: man's noncomfort fit ring.

Man's Wed Band Non-Cmft-Dept. Men's 14K gold 4mm plain wedding band, size 10 or less, non-comfort fit. Do not price gold-filled rings. Use: Store brand.

Man's Wedding Band-Cmfrt fit-Dept. Men's 14K solid gold, 4mm wide, plain wedding band, size 10 or less, comfort fit. Do not price gold-filled rings. Use: Store Brand.

Man's Wedding Band-Cmfrt fit-Jewel. Men's 14K solid gold, 4mm wide, plain wedding band, size 10 or less, comfort fit. Do not price gold-filled rings. Use: store brand.

Margarine. 1 pound (4 sticks) regular margarine. Do not price reduced fat variety. Use: Parkay, Fleishman's.

Mattress and Foundation (Catalog). Queen-size mattress and foundation. Quilted cotton/polyester blend layers. Thick layers of convoluted polyfoam. Innerspring system. Mattress thickness, 9¼″, 448 coils. Wood reinforced foundation. Include shipping and handling. Use: Sealy Posture Premier Generation.

Mattress and Foundation (Furn). Queen-size mattress and foundation. Quilted cotton/polyester blend layers. Thick layers of convoluted polyfoam. Innerspring system. Mattress thickness, 9¼″, 448 coils. Wood reinforced foundation. Use: Sealy Posture Premier Generation

Mayonnaise. 32 oz jar of mayonnaise. Use: Kraft, Hellmann's.

Meat, Chuck Roast. Price per pound of an average size USDA graded package. Do not price family-pack, value-pack, super-saver pack or equivalent. Do not price frozen roast. Use: Chuck roast with bone.

Meat, Ground Beef (90% lean). Price per pound, fresh (not frozen or previously frozen) USDA graded lean ground beef (approximately 10 percent fat). Use average size package. Not family-pack, value-pack, super-saver pack, or equivalent. Use: Lean Ground Beef (10% fat).

Meat, Ground Beef (95% lean). Price per pound of 95% lean. (5% fat) ground beef. Do not price choice. Use Select. Use average size package. Not family-pack, value-pack, super-saver pack, or equivalent. Use: Ground beef.

Meat, Ground Chuck or 20% Ground Beef. Price per pound, fresh (not frozen or previously frozen) USDA graded ground chuck or approximately 20% fat ground beef. Use average size package. Not family-pack, value-pack, super-saver pack, or equivalent. Use: Ground chuck or 20% ground beef.

Meat, Pork Chops bone-in. Price per pound of an average size USDA graded package of loin chop with bone. Do not price family-pack, value-pack, super-saver pack or equivalent. Do not price frozen chops. Use: Loin chop with bone.

Meat, Pork Chops boneless. Price per pound of an average size USDA graded (select not choice) package of center cut rib chop without bone. Do not price family-pack, value-pack, super-saver pack or equivalent. Do not price frozen chops. Use: Center cut, rib chop.

Meat, Round Roast. Price per pound of fresh (not frozen or previously frozen) USDA graded, average size package. Not family-pack, value-pack, super-saver pack, or equivalent. Use: Eye round roast, boneless.

Meat, Round Steak. Price per pound, fresh (not frozen or previously frozen) USDA graded average size package. Not family-pack, value-pack, super-saver pack or equivalent. Use: Boneless Top Round.

Meat, Sirloin Steak. Price per pound of fresh (not frozen or previously frozen) USDA graded, average size package. Not family-pack, value-pack, super-saver pack, or equivalent. Use: Boneless sirloin.

Meat, Sliced Bacon. 16 oz package USDA grade, regular slice. Not Canadian bacon, extra thick sliced, or extra lean. Use: Hormel, Armour.

Milk, 2%. One gallon (128 fl oz), 2%. Record brand in comments. Use: Store Brand 2% Milk, Local Brand.

Milk, Whole. One gallon (128 fl oz), whole milk. Record brand in comments. Use: Store brand, Local brand.

Mover driver (hourly wage). Local Government hourly rate for truck driver light. Use: mover driver Local Government.

Moving (hourly wage). Local hourly wage for a mover. If none available, use material handler. Use: Local Government wage data.

Moving Service (Hourly). Hourly rate for a within city move, two men with an enclosed van. Include any van rental fees if charged separately. Do not include extra insurance or special packaging options. If company requires more than two men, report the number of men in comments. Use: Moving Service.

Newspaper, Home Delivery. 1 year of home delivery of the largest selling daily regional paper (including Sunday edition) distributed in the area. Do not include tip. Use: Newspaper.

Newspaper, newsstand. Price of newspaper at a newsstand (in box). Use: Newspaper Newsstand.

Non-Aspirin Pain Reliever. 60 tablets of extra-strength acetaminophen. Not caplets or gel caps. If number of tablets differs, note and prorate. Use: Tylenol, Excedrin-Free.

Oranges. Price per pound of loose oranges. If only bagged oranges are available, also report the weight of the bag. Note quality. Use: Valencia.

Outboard Motor. 15 hp, 2 cycle, standard shaft, rope start, outboard motor suitable for use on an inflatable dinghy. Use: Mercury.

Parcel Post to Chicago. Cost to mail a 5 pound package to Chicago using regular mail delivery service. Use: Parcel Post to Chicago.

Parcel Post to Los Angeles. Cost to mail a 5 pound package to Los Angeles using regular mail delivery service. Use: Parcel Post to Los Angeles.

Parcel Post to New York. Cost to mail a 5 pound package to New York using regular mail delivery service. Use: Parcel Post to New York.

Pearl Earrings (Dept Store). Pair 6 mm cultured or fresh water pearl earrings with gold post. If not available, but 4, 5, 7, or 8 mm are available, record each separately as a substitute. Use: Store Brand.

Pearl Earrings (Jewelry Store). Pair 6 mm cultured or fresh water pearl earrings with gold post. If not available, but 4, 5, 7, or 8 mm are available, record each separately as a substitute. Use: Store Brand.

Pen. 10 pack round stick medium point pen. Not Crystal or clear type. Use: Bic Round Stic, Paper Mate.

Pet food. 5.5 oz can of cat food. Use: Purina, 9 Lives, Friskies, Whiskas.

Piano lesson. One-half hour beginner private lesson. Price through a music studio if possible. Use: Piano Lesson.

Plant Food. 24 oz container of granulated indoor plant food. Use: Miracle Grow.

Potato Chips. 5.5-6 oz bag of regular potato chips. Use: Ruffles Potato Chips, Lay's Potato Chips.

Potatoes. Price per pound of loose potatoes. If only bag potatoes available, report smallest size as substitute and note weight. Use: Russet baking, White.

Prescription Drug 1. 20 mg of 30 capsules of non-generic Prilosec. Use: Prilosec.

Prescription Drug 2. 250 mg of 30 capsules of generic Amoxicil (survey Amoxicillin). Use: Amoxicillin.

Printer. Color inkjet printer, 2400 X 1200 dpi, up to 9 ppm b/w; 7.5 ppm color. Use: HP DeskJet 920c.

Printer, Color. 2880 x 720 dpi print resolution, 12ppm black & white; 5.5ppm color, USB cable included (a $10 value), Microsoft Windows 98 / Me / 2000 / XP. Use: Printer, Color (Gateway).

Printer, Color (HP). Color DeskJet printer, 2400 X 1200 dpi, up to 12 ppm b/w; 10 ppm color. Use: Epson Stylus C42UX (Gateway), HP DeskJet 940c.

Red Roses. One dozen long stemmed, fresh cut red roses wrapped in floral paper. Purchased not delivered. Not boxed or arranged in vase. Use: Dozen red roses.

Refrigerator. No frost top mount 20.5—21.5 cu ft refrigerator with reversible doors, glass shelves, moisture controlled crisper drawers, and meat drawer. Door contains 1 or more covered compartments, and adjustable bins. Freezer has adjustable wire shelves, door bins, but no ice maker. Use: Whirlpool Top Mount ET1MTKXKQ.

Refrigerator with ice maker. No frost top mount 20.5—21.5 cu ft refrigerator with reversible doors, glass shelves, moisture controlled crisper drawers, and meat drawer. Door contains 1 or more covered compartments, and adjustable bins. Freezer has adjustable wire shelves, door bins, with ice maker. Use: Whirlpool (ET1MTKXKQ), Whirlpool (ET1MTMXKQ).

Rental Data. Rental averages from Hedonic Regressions. Use: Rental Data (OPM).

Renter Insurance 1. HO-4 renters insurance coverage for $25,000 of contents. Policy must cover hurricane, earthquake, and other catastrophic damage. Use: Renter's Insurance Low.

Renter Insurance 2. HO-4 renters insurance coverage for $30,000 of contents. Policy must cover hurricane, earthquake, and other catastrophic damage. Use: Renter's Insurance Middle.

Renter Insurance 3. HO-4 renters insurance coverage for $35,000 of contents. Policy must cover hurricane, earthquake, and other catastrophic damage. Use: Renter's Insurance Upper.

Rice—Long Grain. 5 pound bag of long grain enriched white rice. Do not price converted or minute rice. Record brand in comments. Use: Uncle Ben's.

Rice—Medium Grain. 3 pound bag of medium grain white rice—NOT converted or parboiled. Use: Sello Rojo, Goya.

Salt. 26 oz box of iodized salt. Not sea-salt, kosher-style, etc. Record brand in comments. Use: Morton.

Shampoo. 15 oz bottle for normal hair. Use: Suave, VO5, White Rain.

Sheets. 230-250 thread count cotton or cotton polyester blend. QUEEN size fitted or flat sheet, Not a set. Use: Martha Stewart, Store Brand.

Shop Rate, Ford. Hourly shop rate for a mechanic at a Ford dealership. Use: Hourly Shop Rate, Ford.

Shop Rate, Honda. Hourly shop rate for a mechanic at a Honda dealership. Use: Hourly shop rate, Honda.

Shop Rate, Toyota. Hourly shop rate for a mechanic at a Toyota dealership. Use: Hourly shop rate, Toyota.

Snack cake. 1 box (8 or 10 to a box) cream-filled type cake desserts. Not fresh baked desserts, individual servings, or larger family-style containers. Use: Hostess Twinkies, Hostess Cupcakes.

Soft Drink. 2 liter plastic bottle. Use: Coca-Cola, Pepsi.

Soy Milk. One quart soy milk—plain, not flavored. Use: Vitasoy, Silk Soy.

Spaghetti, Dry. 16 oz box or bag. Do not price store brand. Use: San Giorgio, Mueller's, Ronzoni.

Stamp. Cost of mailing a one ounce letter first class. Use: First Class Stamp.

Sugar. 5 pound bag of granulated cane or beet sugar. Do not price superfine or generic. Record brand in comments. Use: Store Brand, Local Brand.

Tax Preparation. Flat rate for preparing individual tax Federal 1040 (long form), Schedule A, plus State or local equivalents. (Note: Some areas only have local income taxes.) Note number of forms in comments. Assume typical itemized deductions. If only hourly rate available, obtain estimate of the time necessary to prepare forms, prorate, and report as a substitute. Not a CPA. Use: Tax Preparation.

Taxi Fare. 5 miles cab fare, one way, from major airport. Include fare for only 1 passenger with 2 suitcases. (In DC, use Dulles, BWI and National.) Include applicable taxes and record in comments. Not tourist zone. Use: Taxi Fare.

Telephone Service. Monthly cost for unmeasured touchtone service. Include tax. Exclude options such as call waiting, call forwarding or fees for equipment rental. Use: Local phone service.

Television 20″. 20″ color TV w/front AV inputs, remote, and approximately 181 channel tuning. NOT stereo and NOT flat screen. Note: Model numbers may vary by dealer. If 20” not available, price 19” as a substitute. Use: RCA F20648, JVC 2310.

Television 27″. 27″ color television with remote control, auto channel, sleep timer, on-screen menus, auto tuning. Use: Panasonic (CT27G7D).

Tennis Balls. One can, 3 heavy-duty yellow felt. Not special gas-filled or premium type. Use: Wilson, Penn.

Tennis club membership. 1 yr reg. individual membership for EXISTING MEMBER. No special offers. If no yearly rate, price month & prorate. Service must be limited to use of courts and tennis clubhouse (if existent). Use: Tennis Club.

Tires, Ford Reg. One black sidewall tire for the Ford Explorer XLT, size (P235/70R x16SL OWL A/S), “original equipment” quality. Do not include mounting, balancing, or road hazard warranty. Use: Goodyear, Michelin, Goodrich.

Tires, Honda Reg. One black sidewall tire for the Honda Civic DX, size (P185/70 R14 87S), “original equipment” quality. Do not include mounting, balancing, or road hazard warranty. Use: Michelin, BF Goodrich, Goodyear.

Tires, Toyota Reg. One black side wall tire for the Toyota Camry LE, size (P205/65 R15), “original equipment” quality. Do not include mounting, balancing, or road hazard warranty. Use: Goodyear, Michelin, BF Goodrich.

Toilet Tissue. 12-roll pack. Use: Charmin.

Tomatoes. Price per pound of medium-size tomatoes. If only available in celo pack, note price and weight of average size package. Not organic, ‘hydro’, plum, or extra fancy tomatoes. Note quality. Use: Available Brand.

Toyota Camry. Purchase price of a 2002 Toyota Camry LE, 4 door, 2.4 liter, 4 cylinder, automatic transmission. Please note the price of any special option packages. Use Worksheet. Use: Toyota Camry LE.

Toyota License, Reg, & Taxes. License, registration, and periodic taxes (e.g., road or personal property tax, but NOT one-time taxes such as sales tax) on a 2002 Toyota Camry LE, 4 door, 2.4 liter, 4 cylinder, automatic transmission. Use: Toyota Misc Taxes & Registration.

Two-Slice Toaster. Two-slice toaster, cool-touch body (not chrome), wide slot (for bagels), pastry defrost setting. Use: Proctor Silex 22425, Proctor Silex 22420, Proctor Silex 22415, Proctor Silex 22447.

Veterinary Services. Routine annual exam for a small dog (approx. 25 to 30 pounds.) No booster shots, medication, or other extras such as nail clipping, ear cleaning, etc. Use: Vet services.

Video Recorder. 4-head Hi-Fi Stereo, on-screen programming, front A/V jacks, and universal remote. NOT Super VHS. Note: Model numbers may vary by dealer. Use: Sony (SLV-N55), JVC HRJ691U, RCA VR637HF.

Video Rental. One video tape, 1-day or minimum rental rate for Saturday night. Non-member fee. Do not price new releases, oldies or classics where price is different from a regular rental. Use: Video Rental.

Wash, Single Load. One load, regular size, top loading washing machine. Exclude drying. Use: Coin laundry.

Washing machine. Features 12 cycle super capacity washer with 3 water temps. 3.0-3.2 cubic ft. with fabric softener and bleach dispenser. 2 or more speed combination. Use: GE WBSE3120B.

Washing machine (8 cycle). Features 8 cycle super capacity washer (3.0-3.2 cu. ft), 3 water temps, 3 water levels, w/fabric softener and bleach dispenser. Color: White-on-white. Use: Whirlpool LSR8433KQ.

Water Bill. Rate schedule for water and sewer including any related charges, taxes, customer service charges, etc. Obtain sample local water bill, if possible. Use: worksheet.

Will Preparation. HOURLY RATE to prepare a simple will. Not paralegal. If large firm, not partner. Use: Legal service: will or trust.

Window Mini-blind. Approximately 36″ wide by 64″ long. Room darkening vinyl, medium weight. Color: White. Use: Main Fine USA model #MD3664W.

Window Shade. Room darkening, medium weight, pull-down shade. Approx. 37″ wide x 66″ long (usually free to cut smaller). Use: Store brand.

Wine at Home 1. 750 ml of Chardonnay wine. Vintage 2000. Use: Fetzer.

Wine at Home 2. 750 ml of Chardonnay wine, any vintage (Note vintage in comments). Use: Turning Leaf.

Wine Away-(CH type). One glass of house white wine at Chart House type restaurant where meal is also priced. Use: House Wine.

Wine Away-(RC type). One glass of house white wine at Ruth's Chris type restaurant where meal is also priced. Use: House Wine.

Wine Away-Casual. One glass of house white wine at casual restaurant where meal is also priced. Use: House brand.

Woman's Athletic Shoes-Dept. Walking shoe for women. Soft leather upper. Full-length Phylon midsole with low-pressure Air-Sole units in heel and forefoot. Composition rubber outsole. Use: New Balance 554 or 608, Nike Air Essential III, Reebok classic.

Woman's Athletic Shoes-Shoe Store. Walking shoe for women. Soft leather upper. Full-length Phylon midsole with low-pressure Air-Sole units in heel and forefoot. Use: New Balance 554 or 608, Nike Essential III, Reebok Classic.

Woman's Blouse (Linen)-Catalog. 100% linen shirt, button cuffs, side vents, machine washable. Include shipping and handling. Use: Linen shirt.

Woman's Blouse (Linen)-Dept. 100% washable linen, short sleeve or sleeveless, button front blouse with minimum trim. Use: Laura Scott, Ashley Stewart, Lane Bryant, Liz Baker, Notations.

Woman's Blouse (Polyester)-Dept. 100% polyester short sleeve, button front blouse with minimum trim. Washable. Use: Laura Scott, Liz Baker, Notations, Impressions.

Woman's blue jeans. Blue jeans. Machine washable, 5 pocket with zipper fly, loose fit, straight leg or tapered. Use: Levi's red tab 550's relaxed, Levi's 577 jeans.

Woman's Casual Khakis. Woman's casual khakis, any color, flat front or pleated pant, machine washable. Use: Dockers Flat Front, Dockers Pleated.

Woman's cut and style. Wash, cut, and styled blow dry. Exclude curling iron if extra. Price hair salons in major department stores and malls. Use: Woman's Haircut.

Woman's Dress (Jersey, Catalog). Jersey dress, ¾ length sleeves, 100% polyester, machine washable. Include shipping and handling. Use: Jersey Dress.

Woman's Dress (Lined Dept Store). Sheath style, fully lined dress appropriate for office. 100% washable linen. Princess seams and padded shoulders. Back zip and walking vent. Washable. Short sleeve, or sleeveless. Use: Store brand, Sag Harbor.

Woman's Dress (unlined Catalog). Tank Dress, straight, sleeveless with side slits, linen/cotton blend. By Liz Baker. Include shipping and handling. Use: Linen/cotton Tank dress.

Woman's Dress (Unlined Dept Store). Sheath style, unlined. 100% cotton or polyester blend. Princess seams and padded shoulders. Back zip and walking vent. Washable. Short sleeve, or sleeveless. Use: Sag Harbor.

Woman's jacket (Catalog). Microfiber jacket, button off hood. Front pockets, convertible collar, polyester/nylon lining, washable. Include shipping and handling. Use: Available catalog brand.

Woman's jeans (CK type). Designer jeans, machine washable, 5 pocket with zip fly. Loose fit, straight leg or tapered. Use: Calvin Klein Easy Straight Leg, Calvin Klein Classic.

Woman's Pump (Catalog). Woman's pump, 2¼ inch heel. (A. Oprah) from JCPenney catalog. Include shipping and handling. Use: Oprah.

Woman's Pump Shoes-Dept. Plain pump (not open toed or open back style), tapered approx. 2″ heel matches shoe (not stacked/wooden type), leather uppers, the remaining parts are man-made materials. No extra ornamentation, extra thick heels, and wedge-type heel. Do not price leather sole shoe. Use: JCPenney's Worthington, Sears Apostrophe, Easy Spirit, Shoebox Store Brand.

Woman's Sweater (Catalog). Cardigan long-sleeve sweater, cotton/nylon/spandex blend, machine washable. Include shipping and handling. Use: Cardigan.

Woman's Sweater (Dept). Long sleeve button down v neck cardigan sweater. 100% cotton or cotton blend. Use: Carolyn Taylor, Designer Original, Apostrophe, Karen Scott, Laura Scott.

Woman's Wallet. Clutch/checkbook style wallet. Split-grain, cowhide leather. Not eel skin, snake skin or other varieties. Use: Buxton, Mundi, Princess Gardner.

Woman's Wallet (fashion brand). Clutch/checkbook style wallet. Split-grain, cowhide leather. Do not price eel skin, snake skin or other varieties. Use: Liz Claiborne, Kenneth Cole.

Appendix 4—COLA Rental Survey Data Collection Elements
Data element | Description of data
Comparable identification code* | Unique identification code that can be associated with photographs.
Comparable's address* | Complete location address of the comparable, including ZIP code, NOT Post Office Box.
How initially identified* | Internet, broker, drive-by, newspaper, published rental listing (e.g., as often found in supermarkets), other.
Person providing information, if applicable | Name and title of person providing information about the comparable. Examples of title: agent, landlord, tenant.
Address, etc. of person providing information | Complete mailing address, phone number(s), and e-mail address, as appropriate, of person providing information about the comparable.
Community name, if applicable | Name of community in which comparable is located.
Year built | Year built or year of last remodeling affecting 50% or more of the structure.
Finished space* | Total square feet of finished space (i.e., living-area).
Basement* | Yes/no.
Bedrooms* | Number of bedrooms.
Bathrooms* | Number of bathrooms (½ bath is toilet and sink; full bath is toilet, sink, shower, and/or tub).
Balcony* | Covered, uncovered, none. Covered, uncovered, none.
Patio* | Covered, uncovered, none.
External condition* | Excellent, good, poor. Excellent condition means the unit is new or like new condition (e.g., recently remodeled, refurbished, or restored). Good condition means the unit shows signs of age but is in good repair (e.g., the paint is not peeling, there are no broken windows, sagging fences, or missing gutters; the yard is maintained; and there are no disabled cars, appliances, or other trash around the property). Poor condition means the unit is habitable but needs repair and the property needs maintenance and/or trash removal.
Neighborhood condition* | Desirable, average, undesirable. A desirable neighborhood generally has homes in excellent or good condition. Commercial services are separate (e.g., clustered in strip malls or business parks). There are many parks and/or open public spaces. Roads and parks are well-maintained and clean. Other public services, including schools, are believed to be good; and the crime rate is perceived to be low. An average neighborhood generally has homes in good condition with a balance of homes in excellent and poor condition. Commercial services are separate. Roads and parks are in good condition but may need cleaning or maintenance. Other public services are perceived to be acceptable but not exceptional. An undesirable neighborhood generally has homes in poor condition. Commercial units may be intermingled with residential units. Roads are often crowded and/or poorly maintained and have litter. There are few parks and those are also poorly maintained. Other public services are believed to be marginal; and crime rate is perceived to be high.
Heating fuel* | Primary heating fuel (e.g., electricity, natural gas, propane, fuel oil, wood, other).
Central air conditioning* | Yes/no. Central air is a ducted system designed to cool all or essentially all of a house or apartment.
Multi-room air conditioning* | Yes/no. If yes and if available, report number of multi-room units. Multi-room air conditioning is a non-window unit designed to cool more than one room but not all of a house or apartment.
Window air conditioning* | Yes/no. If yes and if available, report number of window-type air conditioning units.
Exterior construction* | Exterior construction materials (e.g., brick, stone, cement, block, wood, metal or vinyl siding).
Garage* | Triple (or more), double, single, none.
Carport* | Yes/no.
Reserved parking | Yes/no.
Security* | Gated community, guard, alarm system, none.
Type of unit* | Single family home, duplex, triplex, townhouse/row house, apartment (3 floors or less), high rise apartment (4 floors or more), other.
Furnishings provided by landlord* | Yes/no.
Appliances provided by landlord* | Yes/no. If yes and information is available, report if refrigerator, range, oven, dishwasher, clothes washer, clothes dryer, and/or freezer provided.
Services paid by landlord* | Water, sewer (includes septic), garbage collection, lawn care, cable television, satellite dish, electricity, heating fuel, firewood, snow removal.
Water source | Public, well, cistern, none.
Sewer | Public, septic, none.
Fireplace | Yes/no.
Paved road* | Yes/no.
Sidewalks* | Yes/no.
Streetlights* | Yes/no.
Complementary recreation facilities* | Yes/no. If yes, note complementary (i.e., free) swimming pools, club houses, tennis courts, or other significant recreational facilities available.
Pets | Yes/no. Yes, if dogs, cats, or both allowed; else no.
Exceptional view* | Yes/no. A view of a park, ocean, mountain, valley, golf course, etc., that is unusually beautiful for the area and may increase the rental value of the property. [Note: Properties with direct access to such an amenity are not comparables and must not be surveyed.]
Vacant | Yes/no. If vacant and if known, report how long unit has been on market.
Rent* | Rental or lease amount per month.
Date of listing* | Date associated with rental rate reported above.
Other fees and charges* | Additional periodic fees or charges that the tenant pays, e.g., parking fees, condo fees, pet fees. Do not include deposits, first/last month's rent, utilities, tenant's insurance, or discretionary fees (e.g., cable TV, community pool membership).
Comment | Additional information that helps clarify above data elements as they apply to the comparable.
*Required.

Appendix 5—Hedonic Rental Data Equations and Results

Data TempFile;

StCroix=0; StTomJohn=0; PuertoRico=0; ExtConAvg=0; ExtConGood=0; HighRise=0; Apartment=0; Neighbrhd=0; Unfurnished=0; NoPets=0; PayParking=0; SqftxApartment=0; SqftxHighrise=0; SqftxHouse=0; BathxApartment=0; BathxHighRise=0; BathxHouse=0; BedxHouse=0; BedxNonhouse=0; AgexHouse=0; AgexNonhouse=0;

if island=‘1-Croix’ then StCroix=1;

if island=‘2-JonTho’ then StTomJohn=1;

if island=‘3-P.Rico’ then PuertoRico=1;

/* if island=‘4-DC-Base’ then dc=1;—Make DC base area*/

if extrcond=‘A’ then ExtConGood=1;

if extrcond=‘B’ then ExtConAvg=1;

/* if extrcond=‘C’ then poor=1;—Make poor base condition*/

if unit=‘APART’ then Apartment=1;

if unit=‘HIGH’ then HighRise=1;

/* if unit=‘HOUSE’ then house=1;—Make house base type unit*/

if neighbor=‘DESIRABLE’ THEN Neighbrhd=1;

IF FURNITURE=‘N’ THEN Unfurnished=1;

IF PETS=‘N’ THEN NoPets=1;

IF PARKING=‘no’ then PayParking=1;

if unit=‘APART’ then SqftxApartment=sqfootage;

if unit=‘HIGH’ then SqftxHighRise=sqfootage;

if unit=‘HOUSE’ then SqftxHouse=sqfootage;

if unit=‘APART’ then BathxApartment=baths;

if unit=‘HIGH’ then BathxHighRise=baths;

if unit=‘HOUSE’ then BathxHouse=baths;

if unit=‘HOUSE’ then BedxHouse=bedrooms;

if unit ne ‘HOUSE’ then BedxNonhouse = bedrooms;

if unit=‘HOUSE’ then AgexHouse=age;

if unit ne ‘HOUSE’ THEN AgexNonhouse = age;

PROC REG DATA=TempFile;

MODEL lrent = StCroix—AgexNonhouse;

TITLE ‘2002 Caribbean Rental Data—Federal Register Model’; Run;

2002 Caribbean Rental Data—Federal Register Model
[The REG procedure dependent variable: lrent]
[Analysis of variance]
Source | DF | Sum of squares | Mean square | F value | Pr > F
Model | 21 | 338.1567 | 16.1027 | 318.95 | <.0001
Error | 1585 | 80.0202 | 0.05049
Corrected Total | 1606 | 418.1769

Root MSE | 0.22469 | R-Square | 0.8086
Dependent Mean | 7.03641 | Adj R-Sq | 0.8061
Coeff Var | 3.19326

Parameter Estimates
Variable | DF | Parameter estimate | Standard error | t value | Pr > |t|
Intercept | 1 | 6.33288 | 0.09064 | 69.87 | <.0001
StCroix | 1 | −0.40677 | 0.0275 | −14.79 | <.0001
StTomJohn | 1 | −0.18449 | 0.02555 | −7.22 | <.0001
PuertoRico | 1 | −0.4319 | 0.01824 | −23.68 | <.0001
ExtConAvg | 1 | 0.2285 | 0.08049 | 2.84 | 0.0046
ExtConGood | 1 | 0.34187 | 0.08118 | 4.21 | <.0001
HighRise | 1 | −0.1148 | 0.06361 | −1.8 | 0.0713
Apartment | 1 | −0.38439 | 0.0507 | −7.58 | <.0001
Neighbrhd | 1 | 0.23193 | 0.01527 | 15.19 | <.0001
Unfurnished | 1 | −0.13775 | 0.02323 | −5.93 | <.0001
NoPets | 1 | −0.03661 | 0.0121 | −3.03 | 0.0025
PayParking | 1 | −0.01242 | 0.01319 | −0.94 | 0.3464
SqftxApartment | 1 | 0.000686 | 5.92E-05 | 11.58 | <.0001
SqftxHighrise | 1 | 0.000453 | 8.11E-05 | 5.58 | <.0001
SqftxHouse | 1 | 0.000272 | 2.1E-05 | 12.97 | <.0001
BathxApartment | 1 | 0.09979 | 0.02694 | 3.7 | 0.0002
BathxHighRise | 1 | 0.16166 | 0.04187 | 3.86 | 0.0001
BathxHouse | 1 | 0.11183 | 0.01405 | 7.96 | <.0001
BedxHouse | 1 | 0.04518 | 0.01415 | 3.19 | 0.0014
BedxNonhouse | 1 | 0.02504 | 0.01498 | 1.67 | 0.0949
AgexHouse | 1 | 0.0013 | 0.000199 | 6.55 | <.0001
AgexNonhouse | 1 | −0.00047 | 0.000422 | −1.12 | 0.2610

Appendix 6—Final Living-Cost Results for Puerto Rico
MEG | PEG | MEG weight (percent) | PEG weight (percent) | PEG index | MEG index
1. Food |  | 13.16 |  |  | 101.83
| Cereals and bakery products |  | 7.45 | 105.65 |
| Meats, poultry, fish, and eggs |  | 11.16 | 99.40 |
| Dairy products |  | 4.94 | 124.86 |
| Fruits and vegetables |  | 5.56 | 107.05 |
| Processed foods |  | 11.68 | 106.42 |
| Other food at home |  | 3.16 | 92.62 |
| Nonalcoholic beverages |  | 3.74 | 133.21 |
| Food away from home |  | 45.04 | 91.91 |
| Alcoholic beverages |  | 7.28 | 123.96 |
| PEG Total |  | 100.00 |  |
2. Shelter and Utilities |  | 31.30 |  |  | 80.44
| Shelter |  | 89.67 | 66.57 |
| Energy Utilities |  | 8.46 | 236.07 |
| Water and other public services |  | 1.87 | 41.54 |
| PEG Total |  | 100.00 |  |
3. Household Furnishings and Supplies |  | 6.06 |  |  | 98.84
| Household operations |  | 22.51 | 64.95 |
| Housekeeping supplies |  | 17.53 | 113.20 |
| Textiles and Area Rugs |  | 4.16 | 93.40 |
| Furniture |  | 17.39 | 95.70 |
| Major appliances |  | 6.03 | 116.32 |
| Small appliances, misc. hsewares |  | 3.46 | 108.32 |
| Misc. household equipment |  | 28.91 | 114.40 |
| PEG Total |  | 100.00 |  |
4. Apparel and services |  | 4.00 |  |  | 112.80
| Men and boys |  | 18.69 | 107.05 |
| Women and girls |  | 41.66 | 114.32 |
| Children under 2 |  | 4.55 | 103.86 |
| Footwear |  | 17.48 | 88.96 |
| Other apparel products and svcs |  | 17.63 | 141.24 |
| PEG Total |  | 100.00 |  |
5. Transportation |  | 16.93 |  |  | 107.51
| Motor Vehicle Costs |  | 53.67 | 109.17 |
| Gasoline and motor oil |  | 16.02 | 84.24 |
| Maintenance and repairs |  | 10.72 | 94.31 |
| Vehicle insurance |  | 10.24 | 122.13 |
| Public transportation |  | 9.35 | 136.92 |
| PEG Total |  | 100.00 |  |
6. Medical |  | 4.44 |  |  | 73.30
| Health insurance |  | 46.97 | 59.73 |
| Medical services |  | 32.31 | 72.76 |
| Drugs and medical supplies |  | 20.72 | 104.88 |
| PEG Total |  | 100.00 |  |
7. Recreation |  | 6.23 |  |  | 102.99
| Fees and admissions |  | 23.38 | 95.96 |
| Television, radios, sound equip |  | 12.38 | 115.85 |
| Pets, toys, and playground equip. |  | 18.48 | 98.43 |
| Other entertainment supplies, etc. |  | 15.57 | 106.71 |
| Personal care products |  | 11.10 | 98.89 |
| Personal care services |  | 11.29 | 105.17 |
| Reading |  | 7.80 | 109.76 |
| PEG Total |  | 100.00 |  |
8. Education and Communication |  | 4.09 |  |  | 132.89
| Education |  | 5.06 | 216.35 |
| Communications |  | 79.32 | 132.97 |
| Computers and computer services |  | 15.62 | 105.41 |
| PEG Total |  | 100.00 |  |
9. Miscellaneous |  | 13.79 |  |  | 103.10
| Tobacco products and supplies |  | 3.51 | 87.91 |
| Miscellaneous |  | 15.12 | 123.28 |
| Personal insurance and pensions |  | 81.37 | 100.00 |
| PEG Total |  | 100.00 |  |
Overall Price Index | MEG Total | 100.00 |  |  | 96.60
Plus Adjustment Factor |  |  |  |  | 7.00
Final Living-Cost Index |  |  |  |  | 103.60

Appendix 7—Final Living-Cost Results for the U.S. Virgin Islands
MEG | PEG | MEG weight (percent) | PEG weight (percent) | PEG index | MEG index
St. Croix, U.S. Virgin Islands 2002 Survey Results
1. Food |  | 13.16 |  |  | 116.05
| Cereals and bakery products |  | 7.45 | 129.89 |
| Meats, poultry, fish, and eggs |  | 11.16 | 129.25 |
| Dairy products |  | 4.94 | 155.69 |
| Fruits and vegetables |  | 5.56 | 108.80 |
| Processed Foods |  | 11.68 | 128.02 |
| Other food at home |  | 3.16 | 108.01 |
| Nonalcoholic beverages |  | 3.74 | 132.85 |
| Food away from home |  | 45.04 | 105.82 |
| Alcoholic beverages |  | 7.28 | 99.25 |
| PEG Total |  | 100.00 |  |
2. Shelter and Utilities |  | 31.30 |  |  | 97.01
| Shelter |  | 89.67 | 70.99 |
| Energy Utilities |  | 8.46 | 343.31 |
| Water and other public services |  | 1.87 | 230.60 |
| PEG Total |  | 100.00 |  |
3. Household Furnishings and Supplies |  | 6.06 |  |  | 126.20
| Household operations |  | 22.51 | 58.68 |
| Housekeeping supplies |  | 17.53 | 138.03 |
| Textiles and Area Rugs |  | 4.16 | 98.61 |
| Furniture |  | 17.39 | 141.31 |
| Major appliances |  | 6.03 | 127.13 |
| Small appliances, misc. hsewares |  | 3.46 | 101.87 |
| Misc. household equipment |  | 28.91 | 169.19 |
| PEG Total |  | 100.00 |  |
4. Apparel and services |  | 4.00 |  |  | 102.52
| Men and boys |  | 18.69 | 115.94 |
| Women and girls |  | 41.66 | 98.51 |
| Children under 2 |  | 4.55 | 83.57 |
| Footwear |  | 17.48 | 97.20 |
| Other apparel products and svcs |  | 17.63 | 107.95 |
| PEG Total |  | 100.00 |  |
5. Transportation |  | 16.93 |  |  | 111.02
| Motor Vehicle Costs |  | 53.67 | 112.02 |
| Gasoline and motor oil |  | 16.02 | 73.46 |
| Maintenance and repairs |  | 10.72 | 88.94 |
| Vehicle insurance | 10.24 | 119.53 |
| Public transportation |  | 9.35 | 185.59 |
| PEG Total |  | 100.00 |  |
6. Medical |  | 4.44 |  |  | 102.16
| Health insurance |  | 46.97 | 110.99 |
| Medical services |  | 32.31 | 83.05 |
| Drugs and medical Supplies |  | 20.72 | 111.93 |
| PEG Total |  | 100.00 |  |
7. Recreation |  | 6.23 |  |  | 107.72
| Fees and admissions |  | 23.38 | 85.81 |
| Television, radios, sound equip |  | 12.38 | 94.05 |
| Pets, toys, and playground equip |  | 18.48 | 124.46 |
| Other entertainment supplies, etc |  | 15.57 | 118.42 |
| Personal care products |  | 11.10 | 120.92 |
| Personal care services |  | 11.29 | 107.77 |
| Reading |  | 7.80 | 115.28 |
| PEG Total |  | 100.00 |  |
8. Education and Communication |  | 4.09 |  |  | 173.59
| Education |  | 5.06 | 268.97 |
| Communications |  | 79.32 | 180.93 |
| Computers and Computer Services |  | 15.62 | 105.41 |
| PEG Total |  | 100.00 |  |
9. Miscellaneous |  | 13.79 |  |  | 105.08
| Tobacco products and supplies |  | 3.51 | 52.54 |
| Miscellaneous |  | 15.12 | 144.64 |
| Personal insurance and pensions |  | 81.37 | 100.00 |
| PEG Total |  | 100.00 |  |
St. Thomas/St. John, U.S. Virgin Islands 2002 Survey Results
1. Food |  | 13.16 |  |  | 116.71
| Cereals and bakery products |  | 7.45 | 128.17 |
| Meats, poultry, fish, and eggs |  | 11.16 | 130.42 |
| Dairy products |  | 4.94 | 159.21 |
| Fruits and vegetables |  | 5.56 | 118.71 |
| Processed Foods |  | 11.68 | 136.14 |
| Other food at home |  | 3.16 | 111.80 |
| Nonalcoholic beverages |  | 3.74 | 137.86 |
| Food away from home |  | 45.04 | 103.26 |
| Alcoholic beverages |  | 7.28 | 96.91 |
| PEG Total |  | 100.00 |  |
2. Shelter and Utilities |  | 31.30 |  |  | 112.31
| Shelter |  | 89.67 | 88.05 |
| Energy Utilities |  | 8.46 | 343.31 |
| Water and other public services |  | 1.87 | 230.60 |
| PEG Total |  | 100.00 |  |
3. Household Furnishings and Supplies |  | 6.06 |  |  | 126.43
| Household operations |  | 22.51 | 63.82 |
| Housekeeping supplies |  | 17.53 | 137.67 |
| Textiles and Area Rugs |  | 4.16 | 117.63 |
| Furniture |  | 17.39 | 141.31 |
| Major appliances |  | 6.03 | 126.18 |
| Small appliances, misc. hsewares |  | 3.46 | 102.41 |
| Misc. household equipment |  | 28.91 | 163.62 |
| PEG Total |  | 100.00 |  |
4. Apparel and services |  | 4.00 |  |  | 100.89
| Men and boys |  | 18.69 | 102.33 |
| Women and girls |  | 41.66 | 97.41 |
| Children under 2 |  | 4.55 | 83.57 |
| Footwear |  | 17.48 | 98.45 |
| Other apparel products and svcs |  | 17.63 | 114.51 |
| PEG Total |  | 100.00 |  |
5. Transportation |  | 16.93 |  |  | 119.50
| Motor Vehicle Costs |  | 53.67 | 111.91 |
| Gasoline and motor oil |  | 16.02 | 122.55 |
| Maintenance and repairs |  | 10.72 | 80.37 |
| Vehicle insurance |  | 10.24 | 119.53 |
| Public transportation |  | 9.35 | 202.62 |
| PEG Total |  | 100.00 |  |
6. Medical |  | 4.44 |  |  | 114.17
| Health insurance |  | 46.97 | 110.99 |
| Medical services |  | 32.31 | 121.45 |
| Drugs and medical Supplies |  | 20.72 | 110.03 |
| PEG Total |  | 100.00 |  |
7. Recreation |  | 6.23 |  |  | 105.18
| Fees and admissions |  | 23.38 | 58.55 |
| Television, radios, sound equip |  | 12.38 | 103.95 |
| Pets, toys, and playground equip |  | 18.48 | 126.45 |
| Other entertainment supplies, etc |  | 15.57 | 130.73 |
| Personal care products |  | 11.10 | 113.14 |
| Personal care services |  | 11.29 | 116.88 |
| Reading |  | 7.80 | 117.29 |
| PEG Total |  | 100.00 |  |
8. Education and Communication |  | 4.09 |  |  | 168.47
| Education |  | 5.06 | 188.50 |
| Communications |  | 79.32 | 179.61 |
| Computers and Computer Services |  | 15.62 | 105.41 |
| PEG Total |  | 100.00 |  |
9. Miscellaneous |  | 13.79 |  |  | 102.87
| Tobacco products and supplies |  | 3.51 | 60.63 |
| Miscellaneous |  | 15.12 | 128.10 |
| Personal insurance and pensions |  | 81.37 | 100.00 |
| PEG Total |  | 100.00 |  |

MEG | PEG | St. Croix Index | St. Thomas/St. John Indexes | USVI GS Wtd. Index
Overall U.S. Virgin Islands 2002 Survey Results
GS Employment Weights |  | 44.02% | 55.98% | 100.00%
1. Food |  | 116.05 | 116.71 | 116.42
| Cereals and bakery products | 129.89 | 128.17 | 128.93
| Meats, poultry, fish, and eggs | 129.25 | 130.42 | 129.91
| Dairy products | 155.69 | 159.21 | 157.66
| Fruits and vegetables | 108.80 | 118.71 | 114.35
| Processed Foods | 128.02 | 136.14 | 132.57
| Other food at home | 108.01 | 111.80 | 110.13
| Nonalcoholic beverages | 132.85 | 137.86 | 135.66
| Food away from home | 105.82 | 103.26 | 104.39
| Alcoholic beverages | 99.25 | 96.91 | 97.94
2. Shelter and Utilities |  | 97.01 | 112.31 | 105.58
| Shelter | 70.99 | 88.05 | 80.54
| Energy Utilities | 343.31 | 343.31 | 343.31
| Water and other public services | 230.60 | 230.60 | 230.60
3. Household Furnishings and Supplies |  | 126.20 | 126.43 | 126.33
| Household operations | 58.68 | 63.82 | 61.56
| Housekeeping supplies | 138.03 | 137.67 | 137.83
| Textiles and Area Rugs | 98.61 | 117.63 | 109.25
| Furniture | 141.31 | 141.31 | 141.31
| Major appliances | 127.13 | 126.18 | 126.60
| Small appliances, misc. hsewares | 101.87 | 102.41 | 102.17
| Misc. household equipment | 169.19 | 163.62 | 166.07
4. Apparel and services |  | 102.52 | 100.89 | 101.61
| Men and boys | 115.94 | 102.33 | 108.32
| Women and girls | 98.51 | 97.41 | 97.89
| Children under 2 | 83.57 | 83.57 | 83.57
| Footwear | 97.20 | 98.45 | 97.90
| Other apparel products and svcs | 107.95 | 114.51 | 111.62
5. Transportation |  | 111.02 | 119.50 | 115.76
| Motor Vehicle Costs | 112.02 | 111.91 | 111.96
| Gasoline and motor oil | 73.46 | 122.55 | 100.94
| Maintenance and repairs | 88.94 | 80.37 | 84.14
| Vehicle insurance | 119.53 | 119.53 | 119.53
| Public transportation | 185.59 | 202.62 | 195.12
6. Medical |  | 102.16 | 114.17 | 108.88
| Health insurance | 110.99 | 110.99 | 110.99
| Medical services | 83.05 | 121.45 | 104.55
| Drugs and medical Supplies | 111.93 | 110.03 | 110.87
7. Recreation |  | 107.72 | 105.18 | 106.30
| Fees and admissions | 85.81 | 58.55 | 70.55
| Television, radios, sound equip | 94.05 | 103.95 | 99.59
| Pets, toys, and playground equip | 124.46 | 126.45 | 125.57
| Other entertainment supplies, etc | 118.42 | 130.73 | 125.31
| Personal care products | 120.92 | 113.14 | 116.56
| Personal care services | 107.77 | 116.88 | 112.87
| Reading | 115.28 | 117.29 | 116.41
8. Education and Communication |  | 173.59 | 168.47 | 170.72
| Education | 268.97 | 188.50 | 223.93
| Communications | 180.93 | 179.61 | 180.19
| Computers and Computer Services | 105.41 | 105.41 | 105.41
9. Miscellaneous |  | 105.08 | 102.87 | 103.84
| Tobacco products and supplies | 52.54 | 60.63 | 57.07
| Miscellaneous | 144.64 | 128.10 | 135.38
| Personal insurance and pensions | 100.00 | 100.00 | 100.00
Overall Price Index |  |  |  | 112.44
Plus Adjustment Factor |  |  |  | 9.00
Final Living-Cost Index |  |  |  | 121.44

[FR Doc. 04-2226 Filed 2-6-04; 8:45 am]

BILLING CODE 6325-39-P